DEPARTMENT OF AGRICULTURE

Agricultural Marketing Service

7 CFR Part 1205

[Doc. #AMS-CN-16-0012]

Cotton Board Rules and Regulations: Adjusting Supplemental Assessment on Imports (2016 Amendments)

AGENCY: Agricultural Marketing Service, USDA.

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton.

DATES: This direct rule is effective October 4, 2016, without further action or notice, unless significant adverse comment is received by September 6, 2016. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the Internet and can be retrieved by most Internet search engines. Comments may be submitted anonymously.

Comments, identified by AMS-CN-16-0012, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this document may be found at: www.regulations.gov.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorize changes in the funding procedures for the Cotton Research and Promotion Program. These provisions provide for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2015 in the Federal Register (80 FR 53243) for the purpose of calculating assessments on imported cotton is $0.012013 per kilogram. Using the Average Weighted Price received by U.S. farmers for Upland cotton for the calendar year 2015, this direct final rule would amend the new value of imported cotton to $0.011012 per kilogram to reflect the price paid by U.S. farmers for Upland cotton during 2015.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2015 calendar year weighted average price received by producers for Upland cotton is $0.599 per pound or $1.321 per kg. (0.599 × 2.2046).

Five tenths of one percent of the average price equals $0.006603 per kg. (1.321 × 0.005).

Total Assessment

The total assessment per kilogram of raw cotton is obtained by adding the $1 per bale equivalent assessment of $0.004409 per kg. and the supplemental assessment $0.006603 per kg., which equals $0.011012 per kg.

The current assessment on imported cotton is $0.012013 per kilogram of imported cotton. The revised assessment in this direct final rule is $0.011012, a decrease of $0.001001 per kilogram. This decrease reflects the decrease in the average weighted price of Upland cotton received by U.S. farmers during the period January through December 2015.

Import Assessment Table in section 1205.510(b)(3) indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

B. Good Cause Finding That Proposed Rulemaking Is Unnecessary

Rulemaking under section 553 of the Administrative Procedure Act (5 U.S.C. 551 et seq.) ordinarily involves publication of a notice of proposed rulemaking in the Federal Register and the public is given an opportunity to comment on the proposed rule; however, an agency may issue a rule without prior notice and comment procedures if it determines for good cause that public notice and comment procedures are impracticable, unnecessary, or contrary to the public interest for such rule, and incorporates a statement of the finding with the underlying reasons in the final rule issued.

As described in this Federal Register document, the amendment to the value used to determine the Cotton Research and Promotion Program importer assessment will be updated to reflect the assessment already paid by U.S. farmers. For the reasons mentioned in section A of this preamble, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comment during the comment period, it will publish, in a timely manner, a document in the Federal Register withdrawing this direct final rule. AMS will then address public comments in a subsequent proposed rule and final rule based on the proposed rule.

C. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action has been designated as a “non-significant regulatory action” under § 3(f) of Executive Order 12866, and therefore, review has been waived, and this action has not been reviewed by the Office of Management and Budget.

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,500,000. In 2015, an estimated 20,000 importers are subject to the rules and regulations issued pursuant to the Cotton Research and Promotion Order. Most are considered small entities as defined by the Small Business Administration.

This rule would only affect importers of cotton and cotton-containing products and would lower the assessments paid by the importers under the Cotton Research and Promotion Order. The current assessment on imported cotton is $0.012013 per kilogram of imported cotton. The amended assessment would be $0.011012, which was calculated based on the 12-month weighted average of price received by U.S. cotton farmers. Section 1205.510, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2014 (the last audited year), producer assessments totaled $37.8 million and importer assessments totaled $38.3 million. According to the Cotton Board, should the volume of cotton products imported into the U.S. remain at the same level in 2016, one could expect a decrease of assessments by approximately $3,845,000.

Imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because this rule would decrease the assessments paid by importers under the Cotton Research and Promotion Order. An amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118.

2. In § 1205.510, paragraph (b)(2) and the Import Assessment table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.1012 cents per kilogram.

(3) * * *

Import Assessment Table
[Raw cotton fiber]
HTS No. | CONV. factor | Cents/kg.
5007106010 | 0.2713 | 0.29875556
5007106020 | 0.2713 | 0.29875556
5007906010 | 0.2713 | 0.29875556
5007906020 | 0.2713 | 0.29875556
5112904000 | 0.1085 | 0.1194802
5112905000 | 0.1085 | 0.1194802
5112909010 | 0.1085 | 0.1194802
5112909090 | 0.1085 | 0.1194802
5201000500 | 1 | 1.1012
5201001200 | 1 | 1.1012
5201001400 | 1 | 1.1012
5201001800 | 1 | 1.1012
5201002200 | 1 | 1.1012
5201002400 | 1 | 1.1012
5201002800 | 1 | 1.1012
5201003400 | 1 | 1.1012
5201003800 | 1 | 1.1012
5204110000 | 1.0526 | 1.15912312
5204190000 | 0.6316 | 0.69551792
5204200000 | 1.0526 | 1.15912312
5205111000 | 1 | 1.1012
5205112000 | 1 | 1.1012
5205121000 | 1 | 1.1012
5205122000 | 1 | 1.1012
5205131000 | 1 | 1.1012
5205132000 | 1 | 1.1012
5205141000 | 1 | 1.1012
5205142000 | 1 | 1.1012
5205151000 | 1 | 1.1012
5205152000 | 1 | 1.1012
5205210020 | 1.044 | 1.1496528
5205210090 | 1.044 | 1.1496528
5205220020 | 1.044 | 1.1496528
5205220090 | 1.044 | 1.1496528
5205230020 | 1.044 | 1.1496528
5205230090 | 1.044 | 1.1496528
5205240020 | 1.044 | 1.1496528
5205240090 | 1.044 | 1.1496528
5205260020 | 1.044 | 1.1496528
5205260090 | 1.044 | 1.1496528
5205270020 | 1.044 | 1.1496528
5205270090 | 1.044 | 1.1496528
5205280020 | 1.044 | 1.1496528
5205280090 | 1.044 | 1.1496528
5205310000 | 1 | 1.1012
5205320000 | 1 | 1.1012
5205330000 | 1 | 1.1012
5205340000 | 1 | 1.1012
5205350000 | 1 | 1.1012
5205410020 | 1.044 | 1.1496528
5205410090 | 1.044 | 1.1496528
5205420021 | 1.044 | 1.1496528
5205420029 | 1.044 | 1.1496528
5205420090 | 1.044 | 1.1496528
5205430021 | 1.044 | 1.1496528
5205430029 | 1.044 | 1.1496528
5205430090 | 1.044 | 1.1496528
5205440021 | 1.044 | 1.1496528
5205440029 | 1.044 | 1.1496528
5205440090 | 1.044 | 1.1496528
5205460021 | 1.044 | 1.1496528
5205460029 | 1.044 | 1.1496528
5205460090 | 1.044 | 1.1496528
5205470021 | 1.044 | 1.1496528
5205470029 | 1.044 | 1.1496528
5205470090 | 1.044 | 1.1496528
5205480020 | 1.044 | 1.1496528
5205480090 | 1.044 | 1.1496528
5206110000 | 0.7368 | 0.81136416
5206120000 | 0.7368 | 0.81136416
5206130000 | 0.7368 | 0.81136416
5206140000 | 0.7368 | 0.81136416
5206150000 | 0.7368 | 0.81136416
5206210000 | 0.7692 | 0.84704304
5206220000 | 0.7692 | 0.84704304
5206230000 | 0.7692 | 0.84704304
5206240000 | 0.7692 | 0.84704304
5206250000 | 0.7692 | 0.84704304
5206310000 | 0.7368 | 0.81136416
5206320000 | 0.7368 | 0.81136416
5206330000 | 0.7368 | 0.81136416
5206340000 | 0.7368 | 0.81136416
5206350000 | 0.7368 | 0.81136416
5206410000 | 0.7692 | 0.84704304
5206420000 | 0.7692 | 0.84704304
5206430000 | 0.7692 | 0.84704304
5206440000 | 0.7692 | 0.84704304
5206450000 | 0.7692 | 0.84704304
5207100000 | 0.9474 | 1.04327688
5207900000 | 0.6316 | 0.69551792
5208112020 | 1.0852 | 1.19502224
5208112040 | 1.0852 | 1.19502224
5208112090 | 1.0852 | 1.19502224
5208114020 | 1.0852 | 1.19502224
5208114040 | 1.0852 | 1.19502224
5208114060 | 1.0852 | 1.19502224
5208114090 | 1.0852 | 1.19502224
5208116000 | 1.0852 | 1.19502224
5208118020 | 1.0852 | 1.19502224
5208118090 | 1.0852 | 1.19502224
5208124020 | 1.0852 | 1.19502224
5208124040 | 1.0852 | 1.19502224
5208124090 | 1.0852 | 1.19502224
5208126020 | 1.0852 | 1.19502224
5208126040 | 1.0852 | 1.19502224
5208126060 | 1.0852 | 1.19502224
5208126090 | 1.0852 | 1.19502224
5208128020 | 1.0852 | 1.19502224
5208128090 | 1.0852 | 1.19502224
5208130000 | 1.0852 | 1.19502224
5208192020 | 1.0852 | 1.19502224
5208192090 | 1.0852 | 1.19502224
5208194020 | 1.0852 | 1.19502224
5208194090 | 1.0852 | 1.19502224
5208196020 | 1.0852 | 1.19502224
5208196090 | 1.0852 | 1.19502224
5208198020 | 1.0852 | 1.19502224
5208198090 | 1.0852 | 1.19502224
5208212020 | 1.0852 | 1.19502224
5208212040 | 1.0852 | 1.19502224
5208212090 | 1.0852 | 1.19502224
5208214020 | 1.0852 | 1.19502224
5208214040 | 1.0852 | 1.19502224
5208214060 | 1.0852 | 1.19502224
5208214090 | 1.0852 | 1.19502224
5208216020 | 1.0852 | 1.19502224
5208216090 | 1.0852 | 1.19502224
5208224020 | 1.0852 | 1.19502224
5208224040 | 1.0852 | 1.19502224
5208224090 | 1.0852 | 1.19502224
5208226020 | 1.0852 | 1.19502224
5208226040 | 1.0852 | 1.19502224
5208226060 | 1.0852 | 1.19502224
5208226090 | 1.0852 | 1.19502224
5208228020 | 1.0852 | 1.19502224
5208228090 | 1.0852 | 1.19502224
5208230000 | 1.0852 | 1.19502224
5208292020 | 1.0852 | 1.19502224
5208292090 | 1.0852 | 1.19502224
5208294020 | 1.0852 | 1.19502224
5208294090 | 1.0852 | 1.19502224
5208296020 | 1.0852 | 1.19502224
5208296090 | 1.0852 | 1.19502224
5208298020 | 1.0852 | 1.19502224
5208298090 | 1.0852 | 1.19502224
5208312000 | 1.0852 | 1.19502224
5208314020 | 1.0852 | 1.19502224
5208314040 | 1.0852 | 1.19502224
5208314090 | 1.0852 | 1.19502224
5208316020 | 1.0852 | 1.19502224
5208316040 | 1.0852 | 1.19502224
5208316060 | 1.0852 | 1.19502224
5208316090 | 1.0852 | 1.19502224
5208318020 | 1.0852 | 1.19502224
5208318090 | 1.0852 | 1.19502224
5208321000 | 1.0852 | 1.19502224
5208323020 | 1.0852 | 1.19502224
5208323040 | 1.0852 | 1.19502224
5208323090 | 1.0852 | 1.19502224
5208324020 | 1.0852 | 1.19502224
5208324040 | 1.0852 | 1.19502224
5208324060 | 1.0852 | 1.19502224
5208324090 | 1.0852 | 1.19502224
5208325020 | 1.0852 | 1.19502224
5208325090 | 1.0852 | 1.19502224
5208330000 | 1.0852 | 1.19502224
5208392020 | 1.0852 | 1.19502224
5208392090 | 1.0852 | 1.19502224
5208394020 | 1.0852 | 1.19502224
5208394090 | 1.0852 | 1.19502224
5208396020 | 1.0852 | 1.19502224
5208396090 | 1.0852 | 1.19502224
5208398020 | 1.0852 | 1.19502224
5208398090 | 1.0852 | 1.19502224
5208412000 | 1.0852 | 1.19502224
5208414000 | 1.0852 | 1.19502224
5208416000 | 1.0852 | 1.19502224
5208418000 | 1.0852 | 1.19502224
5208421000 | 1.0852 | 1.19502224
5208423000 | 1.0852 | 1.19502224
5208424000 | 1.0852 | 1.19502224
5208425000 | 1.0852 | 1.19502224
5208430000 | 1.0852 | 1.19502224
5208492000 | 1.0852 | 1.19502224
5208494010 | 1.0852 | 1.19502224
5208494020 | 1.0852 | 1.19502224
5208494090 | 1.0852 | 1.19502224
5208496010 | 1.0852 | 1.19502224
5208496020 | 1.0852 | 1.19502224
5208496030 | 1.0852 | 1.19502224
5208496090 | 1.0852 | 1.19502224
5208498020 | 1.0852 | 1.19502224
5208498090 | 1.0852 | 1.19502224
5208512000 | 1.0852 | 1.19502224
5208514020 | 1.0852 | 1.19502224
5208514040 | 1.0852 | 1.19502224
5208514090 | 1.0852 | 1.19502224
5208516020 | 1.0852 | 1.19502224
5208516040 | 1.0852 | 1.19502224
5208516060 | 1.0852 | 1.19502224
5208516090 | 1.0852 | 1.19502224
5208518020 | 1.0852 | 1.19502224
5208518090 | 1.0852 | 1.19502224
5208521000 | 1.0852 | 1.19502224
5208523020 | 1.0852 | 1.19502224
5208523035 | 1.0852 | 1.19502224
5208523045 | 1.0852 | 1.19502224
5208523090 | 1.0852 | 1.19502224
5208524020 | 1.0852 | 1.19502224
5208524035 | 1.0852 | 1.19502224
5208524045 | 1.0852 | 1.19502224
5208524055 | 1.0852 | 1.19502224
5208524065 | 1.0852 | 1.19502224
5208524090 | 1.0852 | 1.19502224
5208525020 | 1.0852 | 1.19502224
5208525090 | 1.0852 | 1.19502224
5208591000 | 1.0852 | 1.19502224
5208592015 | 1.0852 | 1.19502224
5208592025 | 1.0852 | 1.19502224
5208592085 | 1.0852 | 1.19502224
5208592095 | 1.0852 | 1.19502224
5208594020 | 1.0852 | 1.19502224
5208594090 | 1.0852 | 1.19502224
5208596020 | 1.0852 | 1.19502224
5208596090 | 1.0852 | 1.19502224
5208598020 | 1.0852 | 1.19502224
5208598090 | 1.0852 | 1.19502224
5209110020 | 1.0309 | 1.13522708
5209110025 | 1.0309 | 1.13522708
5209110035 | 1.0309 | 1.13522708
5209110050 | 1.0309 | 1.13522708
5209110090 | 1.0309 | 1.13522708
5209120020 | 1.0309 | 1.13522708
5209120040 | 1.0309 | 1.13522708
5209190020 | 1.0309 | 1.13522708
5209190040 | 1.0309 | 1.13522708
5209190060 | 1.0309 | 1.13522708
5209190090 | 1.0309 | 1.13522708
5209210020 | 1.0309 | 1.13522708
5209210025 | 1.0309 | 1.13522708
5209210035 | 1.0309 | 1.13522708
5209210050 | 1.0309 | 1.13522708
5209210090 | 1.0309 | 1.13522708
5209220020 | 1.0309 | 1.13522708
5209220040 | 1.0309 | 1.13522708
5209290020 | 1.0309 | 1.13522708
5209290040 | 1.0309 | 1.13522708
5209290060 | 1.0309 | 1.13522708
5209290090 | 1.0309 | 1.13522708
5209313000 | 1.0309 | 1.13522708
5209316020 | 1.0309 | 1.13522708
5209316025 | 1.0309 | 1.13522708
5209316035 | 1.0309 | 1.13522708
5209316050 | 1.0309 | 1.13522708
5209316090 | 1.0309 | 1.13522708
5209320020 | 1.0309 | 1.13522708
5209320040 | 1.0309 | 1.13522708
5209390020 | 1.0309 | 1.13522708
5209390040 | 1.0309 | 1.13522708
5209390060 | 1.0309 | 1.13522708
5209390080 | 1.0309 | 1.13522708
5209390090 | 1.0309 | 1.13522708
5209413000 | 1.0309 | 1.13522708
5209416020 | 1.0309 | 1.13522708
5209416040 | 1.0309 | 1.13522708
5209420020 | 0.9767 | 1.07554204
5209420040 | 0.9767 | 1.07554204
5209420060 | 0.9767 | 1.07554204
5209420080 | 0.9767 | 1.07554204
5209430030 | 1.0309 | 1.13522708
5209430050 | 1.0309 | 1.13522708
5209490020 | 1.0309 | 1.13522708
5209490040 | 1.0309 | 1.13522708
5209490090 | 1.0309 | 1.13522708
5209513000 | 1.0309 | 1.13522708
5209516015 | 1.0852 | 1.19502224
5209516025 | 1.0852 | 1.19502224
5209516032 | 1.0852 | 1.19502224
5209516035 | 1.0852 | 1.19502224
5209516050 | 1.0852 | 1.19502224
5209516090 | 1.0852 | 1.19502224
5209520020 | 1.0852 | 1.19502224
5209520040 | 1.0852 | 1.19502224
5209590015 | 1.0852 | 1.19502224
5209590025 | 1.0852 | 1.19502224
5209590040 | 1.0852 | 1.19502224
5209590060 | 1.0852 | 1.19502224
5209590090 | 1.0852 | 1.19502224
5210114020 | 0.6511 | 0.71699132
5210114040 | 0.6511 | 0.71699132
5210114090 | 0.6511 | 0.71699132
5210116020 | 0.6511 | 0.71699132
5210116040 | 0.6511 | 0.71699132
5210116060 | 0.6511 | 0.71699132
5210116090 | 0.6511 | 0.71699132
5210118020 | 0.6511 | 0.71699132
5210118090 | 0.6511 | 0.71699132
5210191000 | 0.6511 | 0.71699132
5210192020 | 0.6511 | 0.71699132
5210192090 | 0.6511 | 0.71699132
5210194020 | 0.6511 | 0.71699132
5210194090 | 0.6511 | 0.71699132
5210196020 | 0.6511 | 0.71699132
5210196090 | 0.6511 | 0.71699132
5210198020 | 0.6511 | 0.71699132
5210198090 | 0.6511 | 0.71699132
5210214020 | 0.6511 | 0.71699132
5210214040 | 0.6511 | 0.71699132
5210214090 | 0.6511 | 0.71699132
5210216020 | 0.6511 | 0.71699132
5210216040 | 0.6511 | 0.71699132
5210216060 | 0.6511 | 0.71699132
5210216090 | 0.6511 | 0.71699132
5210218020 | 0.6511 | 0.71699132
5210218090 | 0.6511 | 0.71699132
5210291000 | 0.6511 | 0.71699132
5210292020 | 0.6511 | 0.71699132
5210292090 | 0.6511 | 0.71699132
5210294020 | 0.6511 | 0.71699132
5210294090 | 0.6511 | 0.71699132
5210296020 | 0.6511 | 0.71699132
5210296090 | 0.6511 | 0.71699132
5210298020 | 0.6511 | 0.71699132
5210298090 | 0.6511 | 0.71699132
5210314020 | 0.6511 | 0.71699132
5210314040 | 0.6511 | 0.71699132
5210314090 | 0.6511 | 0.71699132
5210316020 | 0.6511 | 0.71699132
5210316040 | 0.6511 | 0.71699132
5210316060 | 0.6511 | 0.71699132
5210316090 | 0.6511 | 0.71699132
5210318020 | 0.6511 | 0.71699132
5210318090 | 0.6511 | 0.71699132
5210320000 | 0.6511 | 0.71699132
5210392020 | 0.6511 | 0.71699132
5210392090 | 0.6511 | 0.71699132
5210394020 | 0.6511 | 0.71699132
5210394090 | 0.6511 | 0.71699132
5210396020 | 0.6511 | 0.71699132
5210396090 | 0.6511 | 0.71699132
5210398020 | 0.6511 | 0.71699132
5210398090 | 0.6511 | 0.71699132
5210414000 | 0.6511 | 0.71699132
5210416000 | 0.6511 | 0.71699132
5210418000 | 0.6511 | 0.71699132
5210491000 | 0.6511 | 0.71699132
5210492000 | 0.6511 | 0.71699132
5210494010 | 0.6511 | 0.71699132
5210494020 | 0.6511 | 0.71699132
5210494090 | 0.6511 | 0.71699132
5210496010 | 0.6511 | 0.71699132
5210496020 | 0.6511 | 0.71699132
5210496090 | 0.6511 | 0.71699132
5210498020 | 0.6511 | 0.71699132
5210498090 | 0.6511 | 0.71699132
5210514020 | 0.6511 | 0.71699132
5210514040 | 0.6511 | 0.71699132
5210514090 | 0.6511 | 0.71699132
5210516020 | 0.6511 | 0.71699132
5210516040 | 0.6511 | 0.71699132
5210516060 | 0.6511 | 0.71699132
5210516090 | 0.6511 | 0.71699132
5210518020 | 0.6511 | 0.71699132
5210518090 | 0.6511 | 0.71699132
5210591000 | 0.6511 | 0.71699132
5210592020 | 0.6511 | 0.71699132
5210592090 | 0.6511 | 0.71699132
5210594020 | 0.6511 | 0.71699132
5210594090 | 0.6511 | 0.71699132
5210596020 | 0.6511 | 0.71699132
5210596090 | 0.6511 | 0.71699132
5210598020 | 0.6511 | 0.71699132
5210598090 | 0.6511 | 0.71699132
5211110020 | 0.6511 | 0.71699132
5211110025 | 0.6511 | 0.71699132
5211110035 | 0.6511 | 0.71699132
5211110050 | 0.6511 | 0.71699132
5211110090 | 0.6511 | 0.71699132
5211120020 | 0.6511 | 0.71699132
5211120040 | 0.6511 | 0.71699132
5211190020 | 0.6511 | 0.71699132
5211190040 | 0.6511 | 0.71699132
5211190060 | 0.6511 | 0.71699132
5211190090 | 0.6511 | 0.71699132
5211202120 | 0.6511 | 0.71699132
5211202125 | 0.6511 | 0.71699132
5211202135 | 0.6511 | 0.71699132
5211202150 | 0.6511 | 0.71699132
5211202190 | 0.6511 | 0.71699132
5211202220 | 0.6511 | 0.71699132
5211202240 | 0.6511 | 0.71699132
5211202920 | 0.6511 | 0.71699132
5211202940 | 0.6511 | 0.71699132
5211202960 | 0.6511 | 0.71699132
5211202990 | 0.6511 | 0.71699132
5211310020 | 0.6511 | 0.71699132
5211310025 | 0.6511 | 0.71699132
5211310035 | 0.6511 | 0.71699132
5211310050 | 0.6511 | 0.71699132
5211310090 | 0.6511 | 0.71699132
5211320020 | 0.6511 | 0.71699132
5211320040 | 0.6511 | 0.71699132
5211390020 | 0.6511 | 0.71699132
5211390040 | 0.6511 | 0.71699132
5211390060 | 0.6511 | 0.71699132
5211390090 | 0.6511 | 0.71699132
5211410020 | 0.6511 | 0.71699132
5211410040 | 0.6511 | 0.71699132
5211420020 | 0.7054 | 0.77678648
5211420040 | 0.7054 | 0.77678648
5211420060 | 0.6511 | 0.71699132
5211420080 | 0.6511 | 0.71699132
5211430030 | 0.6511 | 0.71699132
5211430050 | 0.6511 | 0.71699132
5211490020 | 0.6511 | 0.71699132
5211490090 | 0.6511 | 0.71699132
5211510020 | 0.6511 | 0.71699132
5211510030 | 0.6511 | 0.71699132
5211510050 | 0.6511 | 0.71699132
5211510090 | 0.6511 | 0.71699132
5211520020 | 0.6511 | 0.71699132
5211520040 | 0.6511 | 0.71699132
5211590015 | 0.6511 | 0.71699132
5211590025 | 0.6511 | 0.71699132
5211590040 | 0.6511 | 0.71699132
5211590060 | 0.6511 | 0.71699132
5211590090 | 0.6511 | 0.71699132
5212111010 | 0.5845 | 0.6436514
5212111020 | 0.6231 | 0.68615772
5212116010 | 0.8681 | 0.95595172
5212116020 | 0.8681 | 0.95595172
5212116030 | 0.8681 | 0.95595172
5212116040 | 0.8681 | 0.95595172
5212116050 | 0.8681 | 0.95595172
5212116060 | 0.8681 | 0.95595172
5212116070 | 0.8681 | 0.95595172
5212116080 | 0.8681 | 0.95595172
5212116090 | 0.8681 | 0.95595172
5212121010 | 0.5845 | 0.6436514
5212121020 | 0.6231 | 0.68615772
5212126010 | 0.8681 | 0.95595172
5212126020 | 0.8681 | 0.95595172
5212126030 | 0.8681 | 0.95595172
5212126040 | 0.8681 | 0.95595172
5212126050 | 0.8681 | 0.95595172
5212126060 | 0.8681 | 0.95595172
5212126070 | 0.8681 | 0.95595172
5212126080 | 0.8681 | 0.95595172
5212126090 | 0.8681 | 0.95595172
5212131010 | 0.5845 | 0.6436514
5212131020 | 0.6231 | 0.68615772
5212136010 | 0.8681 | 0.95595172
5212136020 | 0.8681 | 0.95595172
5212136030 | 0.8681 | 0.95595172
5212136040 | 0.8681 | 0.95595172
5212136050 | 0.8681 | 0.95595172
5212136060 | 0.8681 | 0.95595172
5212136070 | 0.8681 | 0.95595172
5212136080 | 0.8681 | 0.95595172
5212136090 | 0.8681 | 0.95595172
5212141010 | 0.5845 | 0.6436514
5212141020 | 0.6231 | 0.68615772
5212146010 | 0.8681 | 0.95595172
5212146020 | 0.8681 | 0.95595172
5212146030 | 0.8681 | 0.95595172
5212146090 | 0.8681 | 0.95595172
5212151010 | 0.5845 | 0.6436514
5212151020 | 0.6231 | 0.68615772
5212156010 | 0.8681 | 0.95595172
5212156020 | 0.8681 | 0.95595172
5212156030 | 0.8681 | 0.95595172
5212156040 | 0.8681 | 0.95595172
5212156050 | 0.8681 | 0.95595172
5212156060 | 0.8681 | 0.95595172
5212156070 | 0.8681 | 0.95595172
5212156080 | 0.8681 | 0.95595172
5212156090 | 0.8681 | 0.95595172
5212211010 | 0.5845 | 0.6436514
5212211020 | 0.6231 | 0.68615772
5212216010 | 0.8681 | 0.95595172
5212216020 | 0.8681 | 0.95595172
5212216030 | 0.8681 | 0.95595172
5212216040 | 0.8681 | 0.95595172
5212216050 | 0.8681 | 0.95595172
5212216060 | 0.8681 | 0.95595172
5212216090 | 0.8681 | 0.95595172
5212221010 | 0.5845 | 0.6436514
5212221020 | 0.6231 | 0.68615772
5212226010 | 0.8681 | 0.95595172
5212226020 | 0.8681 | 0.95595172
5212226030 | 0.8681 | 0.95595172
5212226040 | 0.8681 | 0.95595172
5212226050 | 0.8681 | 0.95595172
5212226060 | 0.8681 | 0.95595172
5212226090 | 0.8681 | 0.95595172
5212231010 | 0.5845 | 0.6436514
5212231020 | 0.6231 | 0.68615772
5212236010 | 0.8681 | 0.95595172
5212236020 | 0.8681 | 0.95595172
5212236030 | 0.8681 | 0.95595172
5212236040 | 0.8681 | 0.95595172
5212236050 | 0.8681 | 0.95595172
5212236060 | 0.8681 | 0.95595172
5212236090 | 0.8681 | 0.95595172
5212241010 | 0.5845 | 0.6436514
5212241020 | 0.6231 | 0.68615772
5212246010 | 0.8681 | 0.95595172
5212246020 | 0.7054 | 0.77678648
5212246030 | 0.8681 | 0.95595172
5212246040 | 0.8681 | 0.95595172
5212246090 | 0.8681 | 0.95595172
5212251010 | 0.5845 | 0.6436514
5212251020 | 0.6231 | 0.68615772
5212256010 | 0.8681 | 0.95595172
5212256020 | 0.8681 | 0.95595172
5212256030 | 0.8681 | 0.95595172
5212256040 | 0.8681 | 0.95595172
5212256050 | 0.8681 | 0.95595172
5212256060 | 0.8681 | 0.95595172
5212256090 | 0.8681 | 0.95595172
5309213005 | 0.5426 | 0.59751112
5309213010 | 0.5426 | 0.59751112
5309213015 | 0.5426 | 0.59751112
5309213020 | 0.5426 | 0.59751112
5309214010 | 0.2713 | 0.29875556
5309214090 | 0.2713 | 0.29875556
5309293005 | 0.5426 | 0.59751112
5309293010 | 0.5426 | 0.59751112
5309293015 | 0.5426 | 0.59751112
5309293020 | 0.5426 | 0.59751112
5309294010 | 0.2713 | 0.29875556
5309294090 | 0.2713 | 0.29875556
5311003005 | 0.5426 | 0.59751112
5311003010 | 0.5426 | 0.59751112
5311003015 | 0.5426 | 0.59751112
5311003020 | 0.5426 | 0.59751112
5311004010 | 0.8681 | 0.95595172
5311004020 | 0.8681 | 0.95595172
5407810010 | 0.5426 | 0.59751112
5407810020 | 0.5426 | 0.59751112
5407810030 | 0.5426 | 0.59751112
5407810040 | 0.5426 | 0.59751112
5407810090 | 0.5426 | 0.59751112
5407820010 | 0.5426 | 0.59751112
5407820020 | 0.5426 | 0.59751112
5407820030 | 0.5426 | 0.59751112
5407820040 | 0.5426 | 0.59751112
5407820090 | 0.5426 | 0.59751112
5407830010 | 0.5426 | 0.59751112
5407830020 | 0.5426 | 0.59751112
5407830030 | 0.5426 | 0.59751112
5407830040 | 0.5426 | 0.59751112
5407830090 | 0.5426 | 0.59751112
5407840010 | 0.5426 | 0.59751112
5407840020 | 0.5426 | 0.59751112
5407840030 | 0.5426 | 0.59751112
5407840040 | 0.5426 | 0.59751112
5407840090 | 0.5426 | 0.59751112
5509210000 | 0.1053 | 0.11595636
5509220010 | 0.1053 | 0.11595636
5509220090 | 0.1053 | 0.11595636
5509530030 | 0.3158 | 0.34775896
5509530060 | 0.3158 | 0.34775896
5509620000 | 0.5263 | 0.57956156
5509920000 | 0.5263 | 0.57956156
5510300000 | 0.3684 | 0.40568208
5511200000 | 0.3158 | 0.34775896
5512110010 | 0.1085 | 0.1194802
5512110022 | 0.1085 | 0.1194802
5512110027 | 0.1085 | 0.1194802
5512110030 | 0.1085 | 0.1194802
5512110040 | 0.1085 | 0.1194802
5512110050 | 0.1085 | 0.1194802
5512110060 | 0.1085 | 0.1194802
5512110070 | 0.1085 | 0.1194802
5512110090 | 0.1085 | 0.1194802
5512190005 | 0.1085 | 0.1194802
5512190010 | 0.1085 | 0.1194802
5512190015 | 0.1085 | 0.1194802
5512190022 | 0.1085 | 0.1194802
5512190027 | 0.1085 | 0.1194802
5512190030 | 0.1085 | 0.1194802
5512190035 | 0.1085 | 0.1194802
5512190040 | 0.1085 | 0.1194802
5512190045 | 0.1085 | 0.1194802
5512190050 | 0.1085 | 0.1194802
5512190090 | 0.1085 | 0.1194802
5512210010 | 0.0326 | 0.03589912
5512210020 | 0.0326 | 0.03589912
5512210030 | 0.0326 | 0.03589912
5512210040 | 0.0326 | 0.03589912
5512210060 | 0.0326 | 0.03589912
5512210070 | 0.0326 | 0.03589912
5512210090 | 0.0326 | 0.03589912
5512290010 | 0.217 | 0.2389604
5512910010 | 0.0543 | 0.05979516
5512990005 | 0.0543 | 0.05979516
5512990010 | 0.0543 | 0.05979516
5512990015 | 0.0543 | 0.05979516
5512990020 | 0.0543 | 0.05979516
5512990025 | 0.0543 | 0.05979516
5512990030 | 0.0543 | 0.05979516
5512990035 | 0.0543 | 0.05979516
5512990040 | 0.0543 | 0.05979516
5512990045 | 0.0543 | 0.05979516
5512990090 | 0.0543 | 0.05979516
5513110020 | 0.3581 | 0.39433972
5513110040 | 0.3581 | 0.39433972
5513110060 | 0.3581 | 0.39433972
5513110090 | 0.3581 | 0.39433972
5513120000 | 0.3581 | 0.39433972
5513130020 | 0.3581 | 0.39433972
5513130040 | 0.3581 | 0.39433972
5513130090 | 0.3581 | 0.39433972
5513190010 | 0.3581 | 0.39433972
5513190020 | 0.3581 | 0.39433972
5513190030 | 0.3581 | 0.39433972
5513190040 | 0.3581 | 0.39433972
5513190050 | 0.3581 | 0.39433972
5513190060 | 0.3581 | 0.39433972
5513190090 | 0.3581 | 0.39433972
5513210020 | 0.3581 | 0.39433972
5513210040 | 0.3581 | 0.39433972
5513210060 | 0.3581 | 0.39433972
5513210090 | 0.3581 | 0.39433972
5513230121 | 0.3581 | 0.39433972
5513230141 | 0.3581 | 0.39433972
5513230191 | 0.3581 | 0.39433972
5513290010 | 0.3581 | 0.39433972
5513290020 | 0.3581 | 0.39433972
5513290030 | 0.3581 | 0.39433972
5513290040 | 0.3581 | 0.39433972
5513290050 | 0.3581 | 0.39433972
5513290060 | 0.3581 | 0.39433972
5513290090 | 0.3581 | 0.39433972
5513310000 | 0.3581 | 0.39433972
5513390111 | 0.3581 | 0.39433972
5513390115 | 0.3581 | 0.39433972
5513390191 | 0.3581 | 0.39433972
5513410020 | 0.3581 | 0.39433972
5513410040 | 0.3581 | 0.39433972
5513410060 | 0.3581 | 0.39433972
5513410090 | 0.3581 | 0.39433972
5513491000 | 0.3581 | 0.39433972
5513492020 | 0.3581 | 0.39433972
5513492040 | 0.3581 | 0.39433972
5513492090 | 0.3581 | 0.39433972
5513499010 | 0.3581 | 0.39433972
5513499020 | 0.3581 | 0.39433972
5513499030 | 0.3581 | 0.39433972
5513499040 | 0.3581 | 0.39433972
5513499050 | 0.3581 | 0.39433972
5513499060 | 0.3581 | 0.39433972
5513499090 | 0.3581 | 0.39433972
5514110020 | 0.4341 | 0.47803092
5514110030 | 0.4341 | 0.47803092
5514110050 | 0.4341 | 0.47803092
5514110090 | 0.4341 | 0.47803092
5514120020 | 0.4341 | 0.47803092
5514120040 | 0.4341 | 0.47803092
5514191020 | 0.4341 | 0.47803092
5514191040 | 0.4341 | 0.47803092
5514191090 | 0.4341 | 0.47803092
5514199010 | 0.4341 | 0.47803092
5514199020 | 0.4341 | 0.47803092
5514199030 | 0.4341 | 0.47803092
5514199040 | 0.4341 | 0.47803092
5514199090 | 0.4341 | 0.47803092
5514210020 | 0.4341 | 0.47803092
5514210030 | 0.4341 | 0.47803092
5514210050 | 0.4341 | 0.47803092
5514210090 | 0.4341 | 0.47803092
5514220020 | 0.4341 | 0.47803092
5514220040 | 0.4341 | 0.47803092
5514230020 | 0.4341 | 0.47803092
5514230040 | 0.4341 | 0.47803092
5514230090 | 0.4341 | 0.47803092
5514290010 | 0.4341 | 0.47803092
5514290020 | 0.4341 | 0.47803092
5514290030 | 0.4341 | 0.47803092
5514290040 | 0.4341 | 0.47803092
5514290090 | 0.4341 | 0.47803092
5514303100 | 0.4341 | 0.47803092
5514303210 | 0.4341 | 0.47803092
5514303215 | 0.4341 | 0.47803092
5514303280 | 0.4341 | 0.47803092
5514303310 | 0.4341 | 0.47803092
5514303390 | 0.4341 | 0.47803092
5514303910 | 0.4341 | 0.47803092
5514303920 | 0.4341 | 0.47803092
5514303990 | 0.4341 | 0.47803092
5514410020 | 0.4341 | 0.47803092
5514410030 | 0.4341 | 0.47803092
5514410050 | 0.4341 | 0.47803092
5514410090 | 0.4341 | 0.47803092
5514420020 | 0.4341 | 0.47803092
5514420040 | 0.4341 | 0.47803092
5514430020 | 0.4341 | 0.47803092
5514430040 | 0.4341 | 0.47803092
5514430090 | 0.4341 | 0.47803092
5514490010 | 0.4341 | 0.47803092
5514490020 | 0.4341 | 0.47803092
5514490030 | 0.4341 | 0.47803092
5514490040 | 0.4341 | 0.47803092
5514490090 | 0.4341 | 0.47803092
5515110005 | 0.1085 | 0.1194802
5515110010 | 0.1085 | 0.1194802
5515110015 | 0.1085 | 0.1194802
5515110020 | 0.1085 | 0.1194802
5515110025 | 0.1085 | 0.1194802
5515110030 | 0.1085 | 0.1194802
5515110035 | 0.1085 | 0.1194802
5515110040 | 0.1085 | 0.1194802
5515110045 | 0.1085 | 0.1194802
5515110090 | 0.1085 | 0.1194802
5515120010 | 0.1085 | 0.1194802
5515120022 | 0.1085 | 0.1194802
5515120027 | 0.1085 | 0.1194802
5515120030 | 0.1085 | 0.1194802
5515120040 | 0.1085 | 0.1194802
5515120090 | 0.1085 | 0.1194802
5515190005 | 0.1085 | 0.1194802
5515190010 | 0.1085 | 0.1194802
5515190015 | 0.1085 | 0.1194802
5515190020 | 0.1085 | 0.1194802
5515190025 | 0.1085 | 0.1194802
5515190030 | 0.1085 | 0.1194802
5515190035 | 0.1085 | 0.1194802
5515190040 | 0.1085 | 0.1194802
5515190045 | 0.1085 | 0.1194802
5515190090 | 0.1085 | 0.1194802
5515290005 | 0.1085 | 0.1194802
5515290010 | 0.1085 | 0.1194802
5515290015 | 0.1085 | 0.1194802
5515290020 | 0.1085 | 0.1194802
5515290025 | 0.1085 | 0.1194802
5515290030 | 0.1085 | 0.1194802
5515290035 | 0.1085 | 0.1194802
5515290040 | 0.1085 | 0.1194802
5515290045 | 0.1085 | 0.1194802
5515290090 | 0.1085 | 0.1194802
5515999005 | 0.1085 | 0.1194802
5515999010 | 0.1085 | 0.1194802
5515999015 | 0.1085 | 0.1194802
5515999020 | 0.1085 | 0.1194802
5515999025 | 0.1085 | 0.1194802
5515999030 | 0.1085 | 0.1194802
5515999035 | 0.1085 | 0.1194802
5515999040 | 0.1085 | 0.1194802
5515999045 | 0.1085 | 0.1194802
5515999090 | 0.1085 | 0.1194802
5516210010 | 0.1085 | 0.1194802
5516210020 | 0.1085 | 0.1194802
5516210030 | 0.1085 | 0.1194802
5516210040 | 0.1085 | 0.1194802
5516210090 | 0.1085 | 0.1194802
5516220010 | 0.1085 | 0.1194802
5516220020 | 0.1085 | 0.1194802
5516220030 | 0.1085 | 0.1194802
5516220040 | 0.1085 | 0.1194802
5516220090 | 0.1085 | 0.1194802
5516230010 | 0.1085 | 0.1194802
5516230020 | 0.1085 | 0.1194802
5516230030 | 0.1085 | 0.1194802
5516230040 | 0.1085 | 0.1194802
5516230090 | 0.1085 | 0.1194802
5516240010 | 0.1085 | 0.1194802
5516240020 | 0.1085 | 0.1194802
5516240030 | 0.1085 | 0.1194802
5516240040 | 0.1085 | 0.1194802
5516240085 | 0.1085 | 0.1194802
5516240095 | 0.1085 | 0.1194802
5516410010 | 0.3798 | 0.41823576
5516410022 | 0.3798 | 0.41823576
5516410027 | 0.3798 | 0.41823576
5516410030 | 0.3798 | 0.41823576
5516410040 | 0.3798 | 0.41823576
5516410050 | 0.3798 | 0.41823576
5516410060 | 0.3798 | 0.41823576
5516410070 | 0.3798 | 0.41823576
5516410090 | 0.3798 | 0.41823576
5516420010 | 0.3798 | 0.41823576
5516420022 | 0.3798 | 0.41823576
5516420027 | 0.3798 | 0.41823576
5516420030 | 0.3798 | 0.41823576
5516420040 | 0.3798 | 0.41823576
5516420050 | 0.3798 | 0.41823576
5516420060 | 0.3798 | 0.41823576
5516420070 | 0.3798 | 0.41823576
5516420090 | 0.3798 | 0.41823576
5516430010 | 0.217 | 0.2389604
5516430015 | 0.3798 | 0.41823576
5516430020 | 0.3798 | 0.41823576
5516430035 | 0.3798 | 0.41823576
5516430080 | 0.3798 | 0.41823576
5516440010 | 0.3798 | 0.41823576
5516440022 | 0.3798 | 0.41823576
5516440027 | 0.3798 | 0.41823576
5516440030 | 0.3798 | 0.41823576
5516440040 | 0.3798 | 0.41823576
5516440050 | 0.3798 | 0.41823576
5516440060 | 0.3798 | 0.41823576
5516440070 | 0.3798 | 0.41823576
5516440090 | 0.3798 | 0.41823576
5516910010 | 0.0543 | 0.05979516
5516910020 | 0.0543 | 0.05979516
5516910030 | 0.0543 | 0.05979516
5516910040 | 0.0543 | 0.05979516
5516910050 | 0.0543 | 0.05979516
5516910060 | 0.0543 | 0.05979516
5516910070 | 0.0543 | 0.05979516
5516910090 | 0.0543 | 0.05979516
5516920010 | 0.0543 | 0.05979516
5516920020 | 0.0543 | 0.05979516
5516920030 | 0.0543 | 0.05979516
5516920040 | 0.0543 | 0.05979516
5516920050 | 0.0543 | 0.05979516
5516920060 | 0.0543 | 0.05979516
5516920070 | 0.0543 | 0.05979516
5516920090 | 0.0543 | 0.05979516
5516930010 | 0.0543 | 0.05979516
5516930020 | 0.0543 | 0.05979516
5516930090 | 0.0543 | 0.05979516
5516940010 | 0.0543 | 0.05979516
5516940020 | 0.0543 | 0.05979516
5516940030 | 0.0543 | 0.05979516
5516940040 | 0.0543 | 0.05979516
5516940050 | 0.0543 | 0.05979516
5516940060 | 0.0543 | 0.05979516
5516940070 | 0.0543 | 0.05979516
5516940090 | 0.0543 | 0.05979516
5601210010 | 0.9767 | 1.07554204
5601210090 | 0.9767 | 1.07554204
5601220010 | 0.9767 | 1.07554204
5601220090 | 0.9767 | 1.07554204
5601300000 | 0.3256 | 0.35855072
5602101000 | 0.0543 | 0.05979516
5602109090 | 0.4341 | 0.47803092
5602290000 | 0.4341 | 0.47803092
5602909000 | 0.3256 | 0.35855072
5603143000 | 0.2713 | 0.29875556
5603910010 | 0.0217 | 0.02389604
5603910090 | 0.0651 | 0.07168812
5603920010 | 0.0217 | 0.02389604
5603920090 | 0.0651 | 0.07168812
5603930010 | 0.0217 | 0.02389604
5603930090 | 0.0651 | 0.07168812
5603941090 | 0.3256 | 0.35855072
5603943000 | 0.1628 | 0.17927536
5603949010 | 0.0326 | 0.03589912
5604100000 | 0.2632 | 0.28983584
5604909000 | 0.2105 | 0.2318026
5605009000 | 0.1579 | 0.17387948
5606000010 | 0.1263 | 0.13908156
5606000090 | 0.1263 | 0.13908156
5607502500 | 0.1684 | 0.18544208
5607909000 | 0.8421 | 0.92732052
5608902300 | 0.6316 | 0.69551792
5608902700 | 0.6316 | 0.69551792
5608903000 | 0.3158 | 0.34775896
5609001000 | 0.8421 | 0.92732052
5609004000 | 0.2105 | 0.2318026
5701101300 | 0.0526 | 0.05792312
5701101600 | 0.0526 | 0.05792312
5701104000 | 0.0526 | 0.05792312
5701109000 | 0.0526 | 0.05792312
5701901010 | 1 | 1.1012
5701901020 | 1 | 1.1012
5701901030 | 0.0526 | 0.05792312
5701901090 | 0.0526 | 0.05792312
5701902010 | 0.9474 | 1.04327688
5701902020 | 0.9474 | 1.04327688
5701902030 | 0.0526 | 0.05792312
5701902090 | 0.0526 | 0.05792312
5702101000 | 0.0447 | 0.04922364
5702109010 | 0.0447 | 0.04922364
5702109020 | 0.85 | 0.93602
5702109030 | 0.0447 | 0.04922364
5702109090 | 0.0447 | 0.04922364
5702201000 | 0.0447 | 0.04922364
5702311000 | 0.0447 | 0.04922364
5702312000 | 0.0895 | 0.0985574
5702322000 | 0.0895 | 0.0985574
5702391000 | 0.0895 | 0.0985574
5702392010 | 0.8053 | 0.88679636
5702392090 | 0.0447 | 0.04922364
5702411000 | 0.0447 | 0.04922364
5702412000 | 0.0447 | 0.04922364
5702421000 | 0.0895 | 0.0985574
5702422020 | 0.0895 | 0.0985574
5702422080 | 0.0895 | 0.0985574
5702491020 | 0.8947 | 0.98524364
5702491080 | 0.8947 | 0.98524364
5702492000 | 0.0895 | 0.0985574
5702502000 | 0.0895 | 0.0985574
5702504000 | 0.0447 | 0.04922364
5702505200 | 0.0895 | 0.0985574
5702505600 | 0.85 | 0.93602
5702912000 | 0.0447 | 0.04922364
5702913000 | 0.0447 | 0.04922364
5702914000 | 0.0447 | 0.04922364
5702921000 | 0.0447 | 0.04922364
5702929000 | 0.0447 | 0.04922364
5702990500 | 0.8947 | 0.98524364
5702991500 | 0.8947 | 0.98524364
5703201000 | 0.0452 | 0.04977424
5703202010 | 0.0452 | 0.04977424
5703302000 | 0.0452 | 0.04977424
5703900000 | 0.3615 | 0.3980838
5705001000 | 0.0452 | 0.04977424
5705002005 | 0.0452 | 0.04977424
5705002015 | 0.0452 | 0.04977424
5705002020 | 0.7682 | 0.84594184
5705002030 | 0.0452 | 0.04977424
5705002090 | 0.1808 | 0.19909696
5801210000 | 0.9767 | 1.07554204
5801221000 | 0.9767 | 1.07554204
5801229000 | 0.9767 | 1.07554204
5801230000 | 0.9767 | 1.07554204
5801260010 | 0.7596 | 0.83647152
5801260020 | 0.7596 | 0.83647152
5801271000 | 0.9767 | 1.07554204
5801275010 | 1.0852 | 1.19502224
5801275020 | 0.9767 | 1.07554204
5801310000 | 0.217 | 0.2389604
5801320000 | 0.217 | 0.2389604
5801330000 | 0.217 | 0.2389604
5801360010 | 0.217 | 0.2389604
5801360020 | 0.217 | 0.2389604
5802110000 | 1.0309 | 1.13522708
5802190000 | 1.0309 | 1.13522708
5802200020 | 0.1085 | 0.1194802
5802200090 | 0.3256 | 0.35855072
5802300030 | 0.4341 | 0.47803092
5802300090 | 0.1085 | 0.1194802
5803001000 | 1.0852 | 1.19502224
5803002000 | 0.8681 | 0.95595172
5803003000 | 0.8681 | 0.95595172
5803005000 | 0.3256 | 0.35855072
5804101000 | 0.4341 | 0.47803092
5804109090 | 0.2193 | 0.24149316
5804291000 | 0.8772 | 0.96597264
5804300020 | 0.3256 | 0.35855072
5805001000 | 0.1085 | 0.1194802
5805003000 | 1.0852 | 1.19502224
5806101000 | 0.8681 | 0.95595172
5806103090 | 0.217 | 0.2389604
5806200010 | 0.2577 | 0.28377924
5806200090 | 0.2577 | 0.28377924
5806310000 | 0.8681 | 0.95595172
5806393080 | 0.217 | 0.2389604
5806400000 | 0.0814 | 0.08963768
5807100510 | 0.8681 | 0.95595172
5807102010 | 0.8681 | 0.95595172
5807900510 | 0.8681 | 0.95595172
5807902010 | 0.8681 | 0.95595172
5808104000 | 0.217 | 0.2389604
5808107000 | 0.217 | 0.2389604
5808900010 | 0.4341 | 0.47803092
5810100000 | 0.3256 | 0.35855072
5810910010 | 0.7596 | 0.83647152
5810910020 | 0.7596 | 0.83647152
5810921000 | 0.217 | 0.2389604
5810929030 | 0.217 | 0.2389604
5810929050 | 0.217 | 0.2389604
5810929080 | 0.217 | 0.2389604
5811002000 | 0.8681 | 0.95595172
5901102000 | 0.5643 | 0.62140716
5901904000 | 0.8139 | 0.89626668
5903101000 | 0.4341 | 0.47803092
5903103000 | 0.1085 | 0.1194802
5903201000 | 0.4341 | 0.47803092
5903203090 | 0.1085 | 0.1194802
5903901000 | 0.4341 | 0.47803092
5903903090 | 0.1085 | 0.1194802
5904901000 | 0.0326 | 0.03589912
5905001000 | 0.1085 | 0.1194802
5905009000 | 0.1085 | 0.1194802
5906100000 | 0.4341 | 0.47803092
5906911000 | 0.4341 | 0.47803092
5906913000 | 0.1085 | 0.1194802
5906991000 | 0.4341 | 0.47803092
5906993000 | 0.1085 | 0.1194802
5907002500 | 0.3798 | 0.41823576
5907003500 | 0.3798 | 0.41823576
5907008090 | 0.3798 | 0.41823576
5908000000 | 0.7813 | 0.86036756
5909001000 | 0.6837 | 0.75289044
5909002000 | 0.4883 | 0.53771596
5910001010 | 0.3798 | 0.41823576
5910001020 | 0.3798 | 0.41823576
5910001030 | 0.3798 | 0.41823576
5910001060 | 0.3798 | 0.41823576
5910001070 | 0.3798 | 0.41823576
5910001090 | 0.6837 | 0.75289044
5910009000 | 0.5697 | 0.62735364
5911101000 | 0.1736 | 0.19116832
5911102000 | 0.0434 | 0.04779208
5911201000 | 0.4341 | 0.47803092
5911310010 | 0.4341 | 0.47803092
5911310020 | 0.4341 | 0.47803092
5911310030 | 0.4341 | 0.47803092
5911310080 | 0.4341 | 0.47803092
5911320010 | 0.4341 | 0.47803092
5911320020 | 0.4341 | 0.47803092
5911320030 | 0.4341 | 0.47803092
5911320080 | 0.4341 | 0.47803092
5911400000 | 0.5426 | 0.59751112
5911900040 | 0.3158 | 0.34775896
5911900080 | 0.2105 | 0.2318026
6001106000 | 0.1096 | 0.12069152
6001210000 | 0.9868 | 1.08666416
6001220000 | 0.1096 | 0.12069152
6001290000 | 0.1096 | 0.12069152
6001910010 | 0.8772 | 0.96597264
6001910020 | 0.8772 | 0.96597264
6001920010 | 0.0548 | 0.06034576
6001920020 | 0.0548 | 0.06034576
6001920030 | 0.0548 | 0.06034576
6001920040 | 0.0548 | 0.06034576
6001999000 | 0.1096 | 0.12069152
6002404000 | 0.7401 | 0.81499812
6002408020 | 0.1974 | 0.21737688
6002408080 | 0.1974 | 0.21737688
6002904000 | 0.7895 | 0.8693974
6002908020 | 0.1974 | 0.21737688
6002908080 | 0.1974 | 0.21737688
6003201000 | 0.8772 | 0.96597264
6003203000 | 0.8772 | 0.96597264
6003301000 | 0.1096 | 0.12069152
6003306000 | 0.1096 | 0.12069152
6003401000 | 0.1096 | 0.12069152
6003406000 | 0.1096 | 0.12069152
6003901000 | 0.1096 | 0.12069152
6003909000 | 0.1096 | 0.12069152
6004100010 | 0.2961 | 0.32606532
6004100025 | 0.2961 | 0.32606532
6004100085 | 0.2961 | 0.32606532
6004902010 | 0.2961 | 0.32606532
6004902025 | 0.2961 | 0.32606532
6004902085 | 0.2961 | 0.32606532
6004909000 | 0.2961 | 0.32606532
6005210000 | 0.7127 | 0.78482524
6005220000 | 0.7127 | 0.78482524
6005230000 | 0.7127 | 0.78482524
6005240000 | 0.7127 | 0.78482524
6005310010 | 0.1096 | 0.12069152
6005310080 | 0.1096 | 0.12069152
6005320010 | 0.1096 | 0.12069152
6005320080 | 0.1096 | 0.12069152
6005330010 | 0.1096 | 0.12069152
6005330080 | 0.1096 | 0.12069152
6005340010 | 0.1096 | 0.12069152
6005340080 | 0.1096 | 0.12069152
6005410010 | 0.1096 | 0.12069152
6005410080 | 0.1096 | 0.12069152
6005420010 | 0.1096 | 0.12069152
6005420080 | 0.1096 | 0.12069152
6005430010 | 0.1096 | 0.12069152
6005430080 | 0.1096 | 0.12069152
6005440010 | 0.1096 | 0.12069152
6005440080 | 0.1096 | 0.12069152
6005909000 | 0.1096 | 0.12069152
6006211000 | 1.0965 | 1.2074658
6006219020 | 0.7675 | 0.845171
6006219080 | 0.7675 | 0.845171
6006221000 | 1.0965 | 1.2074658
6006229020 | 0.7675 | 0.845171
6006229080 | 0.7675 | 0.845171
6006231000 | 1.0965 | 1.2074658
6006239020 | 0.7675 | 0.845171
6006239080 | 0.7675 | 0.845171
6006241000 | 1.0965 | 1.2074658
6006249020 | 0.7675 | 0.845171
6006249080 | 0.7675 | 0.845171
6006310020 | 0.3289 | 0.36218468
6006310040 | 0.3289 | 0.36218468
6006310060 | 0.3289 | 0.36218468
6006310080 | 0.3289 | 0.36218468
6006320020 | 0.3289 | 0.36218468
6006320040 | 0.3289 | 0.36218468
6006320060 | 0.3289 | 0.36218468
6006320080 | 0.3289 | 0.36218468
6006330020 | 0.3289 | 0.36218468
6006330040 | 0.3289 | 0.36218468
6006330060 | 0.3289 | 0.36218468
6006330080 | 0.3289 | 0.36218468
6006340020 | 0.3289 | 0.36218468
6006340040 | 0.3289 | 0.36218468
6006340060 | 0.3289 | 0.36218468
6006340080 | 0.3289 | 0.36218468
6006410025 | 0.3289 | 0.36218468
6006410085 | 0.3289 | 0.36218468
6006420025 | 0.3289 | 0.36218468
6006420085 | 0.3289 | 0.36218468
6006430025 | 0.3289 | 0.36218468
6006430085 | 0.3289 | 0.36218468
6006440025 | 0.3289 | 0.36218468
6006440085 | 0.3289 | 0.36218468
6006909000 | 0.1096 | 0.12069152
6101200010 | 1.02 | 1.123224
6101200020 | 1.02 | 1.123224
6101301000 | 0.2072 | 0.22816864
6101900500 | 0.1912 | 0.21054944
6101909010 | 0.5737 | 0.63175844
6101909030 | 0.51 | 0.561612
6101909060 | 0.255 | 0.280806
6102100000 | 0.255 | 0.280806
6102200010 | 0.9562 | 1.05296744
6102200020 | 0.9562 | 1.05296744
6102300500 | 0.1785 | 0.1965642
6102909005 | 0.5737 | 0.63175844
6102909015 | 0.4462 | 0.49135544
6102909030 | 0.255 | 0.280806
6103101000 | 0.0637 | 0.07014644
6103104000 | 0.1218 | 0.13412616
6103105000 | 0.1218 | 0.13412616
6103106010 | 0.8528 | 0.93910336
6103106015 | 0.8528 | 0.93910336
6103106030 | 0.8528 | 0.93910336
6103109010 | 0.5482 | 0.60367784
6103109020 | 0.5482 | 0.60367784
6103109030 | 0.5482 | 0.60367784
6103109040 | 0.1218 | 0.13412616
6103109050 | 0.1218 | 0.13412616
6103109080 | 0.1827 | 0.20118924
6103320000 | 0.8722 | 0.96046664
6103398010 | 0.7476 | 0.82325712
6103398030 | 0.3738 | 0.41162856
6103398060 | 0.2492 | 0.27441904
6103411010 | 0.3576 | 0.39378912
6103411020 | 0.3576 | 0.39378912
6103412000 | 0.3576 | 0.39378912
6103421020 | 0.8343 | 0.91873116
6103421035 | 0.8343 | 0.91873116
6103421040 | 0.8343 | 0.91873116
6103421050 | 0.8343 | 0.91873116
6103421065 | 0.8343 | 0.91873116
6103421070 | 0.8343 | 0.91873116
6103422010 | 0.8343 | 0.91873116
6103422015 | 0.8343 | 0.91873116
6103422025 | 0.8343 | 0.91873116
6103431520 | 0.2384 | 0.26252608
6103431535 | 0.2384 | 0.26252608
6103431540 | 0.2384 | 0.26252608
6103431550 | 0.2384 | 0.26252608
6103431565 | 0.2384 | 0.26252608
6103431570 | 0.2384 | 0.26252608
6103432020 | 0.2384 | 0.26252608
6103432025 | 0.2384 | 0.26252608
6103491020 | 0.2437 | 0.26836244
6103491060 | 0.2437 | 0.26836244
6103492000 | 0.2437 | 0.26836244
6103498010 | 0.5482 | 0.60367784
6103498014 | 0.3655 | 0.4024886
6103498024 | 0.2437 | 0.26836244
6103498026 | 0.2437 | 0.26836244
6103498034 | 0.5482 | 0.60367784
6103498038 | 0.3655 | 0.4024886
6103498060 | 0.2437 | 0.26836244
6104196010 | 0.8722 | 0.96046664
6104196020 | 0.8722 | 0.96046664
6104196030 | 0.8722 | 0.96046664
6104196040 | 0.8722 | 0.96046664
6104198010 | 0.5607 | 0.61744284
6104198020 | 0.5607 | 0.61744284
6104198030 | 0.5607 | 0.61744284
6104198040 | 0.5607 | 0.61744284
6104198060 | 0.3738 | 0.41162856
6104198090 | 0.2492 | 0.27441904
6104320000 | 0.8722 | 0.96046664
6104392010 | 0.5607 | 0.61744284
6104392030 | 0.3738 | 0.41162856
6104392090 | 0.2492 | 0.27441904
6104420010 | 0.8528 | 0.93910336
6104420020 | 0.8528 | 0.93910336
6104499010 | 0.5482 | 0.60367784
6104499030 | 0.3655 | 0.4024886
6104499060 | 0.2437 | 0.26836244
6104520010 | 0.8822 | 0.97147864
6104520020 | 0.8822 | 0.97147864
6104598010 | 0.5672 | 0.62460064
6104598030 | 0.3781 | 0.41636372
6104598090 | 0.2521 | 0.27761252
6104610010 | 0.2384 | 0.26252608
6104610020 | 0.2384 | 0.26252608
6104610030 | 0.2384 | 0.26252608
6104621010 | 0.7509 | 0.82689108
6104621020 | 0.8343 | 0.91873116
6104621030 | 0.8343 | 0.91873116
6104622006 | 0.7151 | 0.78746812
6104622011 | 0.8343 | 0.91873116
6104622016 | 0.7151 | 0.78746812
6104622021 | 0.8343 | 0.91873116
6104622026 | 0.7151 | 0.78746812
6104622028 | 0.8343 | 0.91873116
6104622030 | 0.8343 | 0.91873116
6104622050 | 0.8343 | 0.91873116
6104622060 | 0.8343 | 0.91873116
6104631020 | 0.2384 | 0.26252608
6104631030 | 0.2384 | 0.26252608
6104632006 | 0.8343 | 0.91873116
6104632011 | 0.8343 | 0.91873116
6104632016 | 0.7151 | 0.78746812
6104632021 | 0.8343 | 0.91873116
6104632026 | 0.3576 | 0.39378912
6104632028 | 0.3576 | 0.39378912
6104632030 | 0.3576 | 0.39378912
6104632050 | 0.7151 | 0.78746812
6104632060 | 0.3576 | 0.39378912
6104691000 | 0.3655 | 0.4024886
6104692030 | 0.3655 | 0.4024886
6104692060 | 0.3655 | 0.4024886
6104698010 | 0.5482 | 0.60367784
6104698014 | 0.3655 | 0.4024886
6104698020 | 0.2437 | 0.26836244
6104698022 | 0.5482 | 0.60367784
6104698026 | 0.3655 | 0.4024886
6104698038 | 0.2437 | 0.26836244
6104698040 | 0.2437 | 0.26836244
6105100010 | 0.9332 | 1.02763984
6105100020 | 0.9332 | 1.02763984
6105100030 | 0.9332 | 1.02763984
6105202010 | 0.2916 | 0.32110992
6105202020 | 0.2916 | 0.32110992
6105202030 | 0.2916 | 0.32110992
6105908010 | 0.5249 | 0.57801988
6105908030 | 0.3499 | 0.38530988
6105908060 | 0.2333 | 0.25690996
6106100010 | 0.9332 | 1.02763984
6106100020 | 0.9332 | 1.02763984
6106100030 | 0.9332 | 1.02763984
6106202010 | 0.2916 | 0.32110992
6106202020 | 0.4666 | 0.51381992
6106202030 | 0.2916 | 0.32110992
6106901500 | 0.0583 | 0.06419996
6106902510 | 0.5249 | 0.57801988
6106902530 | 0.3499 | 0.38530988
6106902550 | 0.2916 | 0.32110992
6106903010 | 0.5249 | 0.57801988
6106903030 | 0.3499 | 0.38530988
6106903040 | 0.2916 | 0.32110992
6107110010 | 1.0727 | 1.18125724
6107110020 | 1.0727 | 1.18125724
6107120010 | 0.4767 | 0.52494204
6107120020 | 0.4767 | 0.52494204
6107191000 | 0.1192 | 0.13126304
6107210010 | 0.8343 | 0.91873116
6107210020 | 0.7151 | 0.78746812
6107220010 | 0.3576 | 0.39378912
6107220015 | 0.1192 | 0.13126304
6107220025 | 0.2384 | 0.26252608
6107299000 | 0.1788 | 0.19689456
6107910030 | 1.1918 | 1.31241016
6107910040 | 1.1918 | 1.31241016
6107910090 | 0.9535 | 1.0499942
6107991030 | 0.3576 | 0.39378912
6107991040 | 0.3576 | 0.39378912
6107991090 | 0.3576 | 0.39378912
6107999000 | 0.1192 | 0.13126304
6108199010 | 1.0611 | 1.16848332
6108199030 | 0.2358 | 0.25966296
6108210010 | 1.179 | 1.2983148
6108210020 | 1.179 | 1.2983148
6108299000 | 0.3537 | 0.38949444
6108310010 | 1.0611 | 1.16848332
6108310020 | 1.0611 | 1.16848332
6108320010 | 0.2358 | 0.25966296
6108320015 | 0.2358 | 0.25966296
6108320025 | 0.2358 | 0.25966296
6108398000 | 0.3537 | 0.38949444
6108910005 | 1.179 | 1.2983148
6108910015 | 1.179 | 1.2983148
6108910025 | 1.179 | 1.2983148
6108910030 | 1.179 | 1.2983148
6108910040 | 1.179 | 1.2983148
6108920005 | 0.2358 | 0.25966296
6108920015 | 0.2358 | 0.25966296
6108920025 | 0.2358 | 0.25966296
6108920030 | 0.2358 | 0.25966296
6108920040 | 0.2358 | 0.25966296
6108999000 | 0.3537 | 0.38949444
6109100004 | 1.0022 | 1.10362264
6109100007 | 1.0022 | 1.10362264
6109100011 | 1.0022 | 1.10362264
6109100012 | 1.0022 | 1.10362264
6109100014 | 1.0022 | 1.10362264
6109100018 | 1.0022 | 1.10362264
6109100023 | 1.0022 | 1.10362264
6109100027 | 1.0022 | 1.10362264
6109100037 | 1.0022 | 1.10362264
6109100040 | 1.0022 | 1.10362264
6109100045 | 1.0022 | 1.10362264
6109100060 | 1.0022 | 1.10362264
6109100065 | 1.0022 | 1.10362264
6109100070 | 1.0022 | 1.10362264
6109901007 | 0.2948 | 0.32463376
6109901009 | 0.2948 | 0.32463376
6109901013 | 0.2948 | 0.32463376
6109901025 | 0.2948 | 0.32463376
6109901047 | 0.2948 | 0.32463376
6109901049 | 0.2948 | 0.32463376
6109901050 | 0.2948 | 0.32463376
6109901060 | 0.2948 | 0.32463376
6109901065 | 0.2948 | 0.32463376
6109901070 | 0.2948 | 0.32463376
6109901075 | 0.2948 | 0.32463376
6109901090 | 0.2948 | 0.32463376
6109908010 | 0.3499 | 0.38530988
6109908030 | 0.2333 | 0.25690996
6110201010 | 0.7476 | 0.82325712
6110201020 | 0.7476 | 0.82325712
6110201022 | 0.7476 | 0.82325712
6110201024 | 0.7476 | 0.82325712
6110201026 | 0.7476 | 0.82325712
6110201029 | 0.7476 | 0.82325712
6110201031 | 0.7476 | 0.82325712
6110201033 | 0.7476 | 0.82325712
6110202005 | 1.1214 | 1.23488568
6110202010 | 1.1214 | 1.23488568
6110202015 | 1.1214 | 1.23488568
6110202020 | 1.1214 | 1.23488568
6110202025 | 1.1214 | 1.23488568
6110202030 | 1.1214 | 1.23488568
6110202035 | 1.1214 | 1.23488568
6110202040 | 1.0965 | 1.2074658
6110202045 | 1.0965 | 1.2074658
6110202067 | 1.0965 | 1.2074658
6110202069 | 1.0965 | 1.2074658
6110202077 | 1.0965 | 1.2074658
6110202079 | 1.0965 | 1.2074658
6110909010 | 0.5607 | 0.61744284
6110909012 | 0.1246 | 0.13720952
6110909014 | 0.3738 | 0.41162856
6110909026 | 0.5607 | 0.61744284
6110909028 | 0.1869 | 0.20581428
6110909030 | 0.3738 | 0.41162856
6110909044 | 0.5607 | 0.61744284
6110909046 | 0.5607 | 0.61744284
6110909052 | 0.3738 | 0.41162856
6110909054 | 0.3738 | 0.41162856
6110909064 | 0.2492 | 0.27441904
6110909066 | 0.2492 | 0.27441904
6110909067 | 0.5607 | 0.61744284
6110909069 | 0.5607 | 0.61744284
6110909071 | 0.5607 | 0.61744284
6110909073 | 0.5607 | 0.61744284
6110909079 | 0.3738 | 0.41162856
6110909080 | 0.3738 | 0.41162856
6110909081 | 0.3738 | 0.41162856
6110909082 | 0.3738 | 0.41162856
6110909088 | 0.2492 | 0.27441904
6110909090 | 0.2492 | 0.27441904
6111201000 | 1.1918 | 1.31241016
6111202000 | 1.1918 | 1.31241016
6111203000 | 0.9535 | 1.0499942
6111204000 | 0.9535 | 1.0499942
6111205000 | 0.9535 | 1.0499942
6111206010 | 0.9535 | 1.0499942
6111206020 | 0.9535 | 1.0499942
6111206030 | 0.9535 | 1.0499942
6111206050 | 0.9535 | 1.0499942
6111206070 | 0.9535 | 1.0499942
6111301000 | 0.2384 | 0.26252608
6111302000 | 0.2384 | 0.26252608
6111303000 | 0.2384 | 0.26252608
6111304000 | 0.2384 | 0.26252608
6111305010 | 0.2384 | 0.26252608
6111305015 | 0.2384 | 0.26252608
6111305020 | 0.2384 | 0.26252608
6111305030 | 0.2384 | 0.26252608
6111305050 | 0.2384 | 0.26252608
6111305070 | 0.2384 | 0.26252608
6111901000 | 0.2384 | 0.26252608
6111902000 | 0.2384 | 0.26252608
6111903000 | 0.2384 | 0.26252608
6111904000 | 0.2384 | 0.26252608
6111905010 | 0.2384 | 0.26252608
6111905020 | 0.2384 | 0.26252608
6111905030 | 0.2384 | 0.26252608
6111905050 | 0.2384 | 0.26252608
6111905070 | 0.2384 | 0.26252608
6112110010 | 0.9535 | 1.0499942
6112110020 | 0.9535 | 1.0499942
6112110030 | 0.9535 | 1.0499942
6112110040 | 0.9535 | 1.0499942
6112110050 | 0.9535 | 1.0499942
6112110060 | 0.9535 | 1.0499942
6112120010 | 0.2384 | 0.26252608
6112120020 | 0.2384 | 0.26252608
6112120030 | 0.2384 | 0.26252608
6112120040 | 0.2384 | 0.26252608
6112120050 | 0.2384 | 0.26252608
6112120060 | 0.2384 | 0.26252608
6112191010 | 0.2492 | 0.27441904
6112191020 | 0.2492 | 0.27441904
6112191030 | 0.2492 | 0.27441904
6112191040 | 0.2492 | 0.27441904
6112191050 | 0.2492 | 0.27441904
6112191060 | 0.2492 | 0.27441904
6112201060 | 0.2492 | 0.27441904
6112201070 | 0.2492 | 0.27441904
6112201080 | 0.2492 | 0.27441904
6112201090 | 0.2492 | 0.27441904
6112202010 | 0.8722 | 0.96046664
6112202020 | 0.3738 | 0.41162856
6112202030 | 0.2492 | 0.27441904
6112310010 | 0.1192 | 0.13126304
6112310020 | 0.1192 | 0.13126304
6112390010 | 1.0727 | 1.18125724
6112410010 | 0.1192 | 0.13126304
6112410020 | 0.1192 | 0.13126304
6112410030 | 0.1192 | 0.13126304
6112410040 | 0.1192 | 0.13126304
6112490010 | 0.8939 | 0.98436268
6113001005 | 0.1246 | 0.13720952
6113001010 | 0.1246 | 0.13720952
6113001012 | 0.1246 | 0.13720952
6113009015 | 0.3489 | 0.38420868
6113009020 | 0.3489 | 0.38420868
6113009038 | 0.3489 | 0.38420868
6113009042 | 0.3489 | 0.38420868
6113009055 | 0.3489 | 0.38420868
6113009060 | 0.3489 | 0.38420868
6113009074 | 0.3489 | 0.38420868
6113009082 | 0.3489 | 0.38420868
6114200005 | 0.9747 | 1.07333964
6114200010 | 0.9747 | 1.07333964
6114200015 | 0.8528 | 0.93910336
6114200020 | 0.8528 | 0.93910336
6114200035 | 0.8528 | 0.93910336
6114200040 | 0.8528 | 0.93910336
6114200042 | 0.3655 | 0.4024886
6114200044 | 0.8528 | 0.93910336
6114200046 | 0.8528 | 0.93910336
6114200048 | 0.8528 | 0.93910336
6114200052 | 0.8528 | 0.93910336
6114200055 | 0.8528 | 0.93910336
6114200060 | 0.8528 | 0.93910336
6114301010 | 0.2437 | 0.26836244
6114301020 | 0.2437 | 0.26836244
6114302060 | 0.1218 | 0.13412616
6114303014 | 0.2437 | 0.26836244
6114303020 | 0.2437 | 0.26836244
6114303030 | 0.2437 | 0.26836244
6114303042 | 0.2437 | 0.26836244
6114303044 | 0.2437 | 0.26836244
6114303052 | 0.2437 | 0.26836244
6114303054 | 0.2437 | 0.26836244
6114303060 | 0.2437 | 0.26836244
6114303070 | 0.2437 | 0.26836244
6114909045 | 0.5482 | 0.60367784
6114909055 | 0.3655 | 0.4024886
6114909070 | 0.3655 | 0.4024886
6115100500 | 0.4386 | 0.48298632
6115101510 | 1.0965 | 1.2074658
6115103000 | 0.9868 | 1.08666416
6115106000 | 0.1096 | 0.12069152
6115298010 | 1.0965 | 1.2074658
6115309030 | 0.7675 | 0.845171
6115956000 | 0.9868 | 1.08666416
6115959000 | 0.9868 | 1.08666416
6115966020 | 0.2193 | 0.24149316
6115991420 | 0.2193 | 0.24149316
6115991920 | 0.2193 | 0.24149316
6115999000 | 0.1096 | 0.12069152
6116101300 | 0.3463 | 0.38134556
6116101720 | 0.8079 | 0.88965948
6116104810 | 0.4444 | 0.48937328
6116105510 | 0.6464 | 0.71181568
6116107510 | 0.6464 | 0.71181568
6116109500 | 0.1616 | 0.17795392
6116920500 | 0.8079 | 0.88965948
6116920800 | 0.8079 | 0.88965948
6116926410 | 1.0388 | 1.14392656
6116926420 | 1.0388 | 1.14392656
6116926430 | 1.1542 | 1.27100504
6116926440 | 1.0388 | 1.14392656
6116927450 | 1.0388 | 1.14392656
6116927460 | 1.1542 | 1.27100504
6116927470 | 1.0388 | 1.14392656
6116928800 | 1.0388 | 1.14392656
6116929400 | 1.0388 | 1.14392656
6116938800 | 0.1154 | 0.12707848
6116939400 | 0.1154 | 0.12707848
6116994800 | 0.1154 | 0.12707848
6116995400 | 0.1154 | 0.12707848
6116999510 | 0.4617 | 0.50842404
6116999530 | 0.3463 | 0.38134556
6117106010 | 0.9234 | 1.01684808
6117106020 | 0.2308 | 0.25415696
6117808500 | 0.9234 | 1.01684808
6117808710 | 1.1542 | 1.27100504
6117808770 | 0.1731 | 0.19061772
6117809510 | 0.9234 | 1.01684808
6117809540 | 0.3463 | 0.38134556
6117809570 | 0.1731 | 0.19061772
6117909003 | 1.1542 | 1.27100504
6117909015 | 0.2308 | 0.25415696
6117909020 | 1.1542 | 1.27100504
6117909040 | 1.1542 | 1.27100504
6117909060 | 1.1542 | 1.27100504
6117909080 | 1.1542 | 1.27100504
6201121000 | 0.8981 | 0.98898772
6201122010 | 0.8482 | 0.93403784
6201122020 | 0.8482 | 0.93403784
6201122025 | 0.9979 | 1.09888748
6201122035 | 0.9979 | 1.09888748
6201122050 | 0.6486 | 0.71423832
6201122060 | 0.6486 | 0.71423832
6201134015 | 0.1996 | 0.21979952
6201134020 | 0.1996 | 0.21979952
6201134030 | 0.2495 | 0.2747494
6201134040 | 0.2495 | 0.2747494
6201199010 | 0.5613 | 0.61810356
6201199030 | 0.3742 | 0.41206904
6201199060 | 0.3742 | 0.41206904
6201921000 | 0.8779 | 0.96674348
6201921500 | 1.0974 | 1.20845688
6201922005 | 0.9754 | 1.07411048
6201922010 | 0.9754 | 1.07411048
6201922021 | 1.2193 | 1.34269316
6201922031 | 1.2193 | 1.34269316
6201922041 | 1.2193 | 1.34269316
6201922051 | 0.9754 | 1.07411048
6201922061 | 0.9754 | 1.07411048
6201931000 | 0.2926 | 0.32221112
6201932010 | 0.2439 | 0.26858268
6201932020 | 0.2439 | 0.26858268
6201933511 | 0.2439 | 0.26858268
6201933521 | 0.2439 | 0.26858268
6201999010 | 0.5487 | 0.60422844
6201999030 | 0.3658 | 0.40281896
6201999060 | 0.2439 | 0.26858268
6202121000 | 0.8879 | 0.97775548
6202122010 | 1.0482 | 1.15427784
6202122020 | 1.0482 | 1.15427784
6202122025 | 1.2332 | 1.35799984
6202122035 | 1.2332 | 1.35799984
6202122050 | 0.8016 | 0.88272192
6202122060 | 0.8016 | 0.88272192
6202134005 | 0.2524 | 0.27794288
6202134010 | 0.2524 | 0.27794288
6202134020 | 0.3155 | 0.3474286
6202134030 | 0.3155 | 0.3474286
6202199010 | 0.5678 | 0.62526136
6202199030 | 0.3786 | 0.41691432
6202199060 | 0.2524 | 0.27794288
6202921000 | 0.9865 | 1.0863338
6202921500 | 0.9865 | 1.0863338
6202922010 | 0.9865 | 1.0863338
6202922020 | 0.9865 | 1.0863338
6202922026 | 1.2332 | 1.35799984
6202922031 | 1.2332 | 1.35799984
6202922061 | 0.9865 | 1.0863338
6202922071 | 0.9865 | 1.0863338
6202931000 | 0.296 | 0.3259552
6202932010 | 0.2466 | 0.27155592
6202932020 | 0.2466 | 0.27155592
6202935011 | 0.2466 | 0.27155592
6202935021 | 0.2466 | 0.27155592
6202999011 | 0.5549 | 0.61105588
6202999031 | 0.37 | 0.407444
6202999061 | 0.2466 | 0.27155592
6203122010 | 0.1233 | 0.13577796
6203122020 | 0.1233 | 0.13577796
6203191010 | 0.9865 | 1.0863338
6203191020 | 0.9865 | 1.0863338
6203191030 | 0.9865 | 1.0863338
6203199010 | 0.5549 | 0.61105588
6203199020 | 0.5549 | 0.61105588
6203199030 | 0.5549 | 0.61105588
6203199050 | 0.37 | 0.407444
6203199080 | 0.2466 | 0.27155592
6203221000 | 1.2332 | 1.35799984
6203321000 | 0.6782 | 0.74683384
6203322010 | 1.1715 | 1.2900558
6203322020 | 1.1715 | 1.2900558
6203322030 | 1.1715 | 1.2900558
6203322040 | 1.1715 | 1.2900558
6203322050 | 1.1715 | 1.2900558
6203332010 | 0.1233 | 0.13577796
6203332020 | 0.1233 | 0.13577796
6203392010 | 0.1233 | 0.13577796
6203392020 | 0.1233 | 0.13577796
6203399010 | 0.5549 | 0.61105588
6203399030 | 0.37 | 0.407444
6203399060 | 0.2466 | 0.27155592
6203421000 | 1.0616 | 1.16903392
6203422005 | 0.7077 | 0.77931924
6203422010 | 0.9436 | 1.03909232
6203422025 | 0.9436 | 1.03909232
6203422050 | 0.9436 | 1.03909232
6203422090 | 0.9436 | 1.03909232
6203424003 | 1.0616 | 1.16903392
6203424006 | 1.1796 | 1.29897552
6203424011 | 1.1796 | 1.29897552
6203424016 | 0.9436 | 1.03909232
6203424021 | 1.1796 | 1.29897552
6203424026 | 1.1796 | 1.29897552
6203424031 | 1.1796 | 1.29897552
6203424036 | 1.1796 | 1.29897552
6203424041 | 0.9436 | 1.03909232
6203424046 | 0.9436 | 1.03909232
6203424051 | 0.8752 | 0.96377024
6203424056 | 0.8752 | 0.96377024
6203424061 | 0.8752 | 0.96377024
6203431000 | 0.1887 | 0.20779644
6203431500 | 0.118 | 0.1299416
6203432005 | 0.118 | 0.1299416
6203432010 | 0.2359 | 0.25977308
6203432025 | 0.2359 | 0.25977308
6203432050 | 0.2359 | 0.25977308
6203432090 | 0.2359 | 0.25977308
6203432500 | 0.4128 | 0.45457536
6203433510 | 0.059 | 0.0649708
6203433590 | 0.059 | 0.0649708
6203434010 | 0.1167 | 0.12851004
6203434015 | 0.1167 | 0.12851004
6203434020 | 0.1167 | 0.12851004
6203434030 | 0.1167 | 0.12851004
6203434035 | 0.1167 | 0.12851004
6203434040 | 0.1167 | 0.12851004
6203491005 | 0.118 | 0.1299416
6203491010 | 0.2359 | 0.25977308
6203491025 | 0.2359 | 0.25977308
6203491050 | 0.2359 | 0.25977308
6203491090 | 0.2359 | 0.25977308
6203491500 | 0.4128 | 0.45457536
6203492015 | 0.2359 | 0.25977308
6203492020 | 0.2359 | 0.25977308
6203492030 | 0.118 | 0.1299416
6203492045 | 0.118 | 0.1299416
6203492050 | 0.118 | 0.1299416
6203492060 | 0.118 | 0.1299416
6203498020 | 0.5308 | 0.58451696
6203498030 | 0.3539 | 0.38971468
6203498045 | 0.2359 | 0.25977308
6204110000 | 0.0617 | 0.06794404
6204120010 | 0.9865 | 1.0863338
6204120020 | 0.9865 | 1.0863338
6204120030 | 0.9865 | 1.0863338
6204120040 | 0.9865 | 1.0863338
6204132010 | 0.1233 | 0.13577796
6204132020 | 0.1233 | 0.13577796
6204192000 | 0.1233 | 0.13577796
6204198010 | 0.5549 | 0.61105588
6204198020 | 0.5549 | 0.61105588
6204198030 | 0.5549 | 0.61105588
6204198040 | 0.5549 | 0.61105588
6204198060 | 0.3083 | 0.33949996
6204198090 | 0.2466 | 0.27155592
6204221000 | 1.2332 | 1.35799984
6204321000 | 0.6782 | 0.74683384
6204322010 | 1.1715 | 1.2900558
6204322020 | 1.1715 | 1.2900558
6204322030 | 0.9865 | 1.0863338
6204322040 | 0.9865 | 1.0863338
6204398010 | 0.5549 | 0.61105588
6204398030 | 0.3083 | 0.33949996
6204412010 | 0.0603 | 0.06640236
6204412020 | 0.0603 | 0.06640236
6204421000 | 1.2058 | 1.32782696
6204422000 | 0.6632 | 0.73031584
6204423010 | 1.2058 | 1.32782696
6204423020 | 1.2058 | 1.32782696
6204423030 | 0.9043 | 0.99581516
6204423040 | 0.9043 | 0.99581516
6204423050 | 0.9043 | 0.99581516
6204423060 | 0.9043 | 0.99581516
6204431000 | 0.4823 | 0.53110876
6204432000 | 0.0603 | 0.06640236
6204442000 | 0.4316 | 0.47527792
6204495010 | 0.5549 | 0.61105588
6204495030 | 0.2466 | 0.27155592
6204510010 | 0.0631 | 0.06948572
6204510020 | 0.0631 | 0.06948572
6204521000 | 1.2618 | 1.38949416
6204522010 | 1.1988 | 1.32011856
6204522020 | 1.1988 | 1.32011856
6204522030 | 1.1988 | 1.32011856
6204522040 | 1.1988 | 1.32011856
6204522070 | 1.0095 | 1.1116614
6204522080 | 1.0095 | 1.1116614
6204531000 | 0.4416 | 0.48628992
6204532010 | 0.0631 | 0.06948572
6204532020 | 0.0631 | 0.06948572
6204533010 | 0.2524 | 0.27794288
6204533020 | 0.2524 | 0.27794288
6204591000 | 0.4416 | 0.48628992
6204594010 | 0.5678 | 0.62526136
6204594030 | 0.2524 | 0.27794288
6204594060 | 0.2524 | 0.27794288
6204611010 | 0.059 | 0.0649708
6204611020 | 0.059 | 0.0649708
6204619010 | 0.059 | 0.0649708
6204619020 | 0.059 | 0.0649708
6204619030 | 0.059 | 0.0649708
6204619040 | 0.118 | 0.1299416
6204621000 | 0.8681 | 0.95595172
6204622005 | 0.7077 | 0.77931924
6204622010 | 0.9436 | 1.03909232
6204622025 | 0.9436 | 1.03909232
6204622050 | 0.9436 | 1.03909232
6204623000 | 1.1796 | 1.29897552
6204624003 | 1.0616 | 1.16903392
6204624006 | 1.1796 | 1.29897552
6204624011 | 1.1796 | 1.29897552
6204624021 | 0.9436 | 1.03909232
6204624026 | 1.1796 | 1.29897552
6204624031 | 1.1796 | 1.29897552
6204624036 | 1.1796 | 1.29897552
6204624041 | 1.1796 | 1.29897552
6204624046 | 0.9436 | 1.03909232
6204624051 | 0.9436 | 1.03909232
6204624056 | 0.9335 | 1.0279702
6204624061 | 0.9335 | 1.0279702
6204624066 | 0.9335 | 1.0279702
6204631000 | 0.2019 | 0.22233228
6204631200 | 0.118 | 0.1299416
6204631505 | 0.118 | 0.1299416
6204631510 | 0.2359 | 0.25977308
6204631525 | 0.2359 | 0.25977308
6204631550 | 0.2359 | 0.25977308
6204632000 | 0.4718 | 0.51954616
6204632510 | 0.059 | 0.0649708
6204632520 | 0.059 | 0.0649708
6204633010 | 0.0603 | 0.06640236
6204633090 | 0.0603 | 0.06640236
6204633510 | 0.2412 | 0.26560944
6204633525 | 0.2412 | 0.26560944
6204633530 | 0.2412 | 0.26560944
6204633532 | 0.2309 | 0.25426708
6204633535 | 0.2309 | 0.25426708
6204633540 | 0.2309 | 0.25426708
6204691005 | 0.118 | 0.1299416
6204691010 | 0.2359 | 0.25977308
6204691025 | 0.2359 | 0.25977308
6204691050 | 0.2359 | 0.25977308
6204692010 | 0.059 | 0.0649708
6204692020 | 0.059 | 0.0649708
6204692030 | 0.059 | 0.0649708
6204692510 | 0.2359 | 0.25977308
6204692520 | 0.2359 | 0.25977308
6204692530 | 0.2359 | 0.25977308
6204692540 | 0.2309 | 0.25426708
6204692550 | 0.2309 | 0.25426708
6204692560 | 0.2309 | 0.25426708
6204696010 | 0.5308 | 0.58451696
6204696030 | 0.2359 | 0.25977308
6204696070 | 0.3539 | 0.38971468
6204699010 | 0.5308 | 0.58451696
6204699030 | 0.2359 | 0.25977308
6204699044 | 0.2359 | 0.25977308
6204699046 | 0.2359 | 0.25977308
6204699050 | 0.3539 | 0.38971468
6205201000 | 1.1796 | 1.29897552
6205202003 | 0.9436 | 1.03909232
6205202016 | 0.9436 | 1.03909232
6205202021 | 0.9436 | 1.03909232
6205202026 | 0.9436 | 1.03909232
6205202031 | 0.9436 | 1.03909232
6205202036 | 1.0616 | 1.16903392
6205202041 | 1.0616 | 1.16903392
6205202044 | 1.0616 | 1.16903392
6205202047 | 0.9436 | 1.03909232
6205202051 | 0.9436 | 1.03909232
6205202056 | 0.9436 | 1.03909232
6205202061 | 0.9436 | 1.03909232
6205202066 | 0.9436 | 1.03909232
6205202071 | 0.9436 | 1.03909232
6205202076 | 0.9436 | 1.03909232
6205301000 | 0.4128 | 0.45457536
6205302010 | 0.2949 | 0.32474388
6205302020 | 0.2949 | 0.32474388
6205302030 | 0.2949 | 0.32474388
6205302040 | 0.2949 | 0.32474388
6205302050 | 0.2949 | 0.32474388
6205302055 | 0.2949 | 0.32474388
6205302060 | 0.2949 | 0.32474388
6205302070 | 0.2949 | 0.32474388
6205302075 | 0.2949 | 0.32474388
6205302080 | 0.2949 | 0.32474388
6205900710 | 0.118 | 0.1299416
6205900720 | 0.118 | 0.1299416
6205901000 | 0.2359 | 0.25977308
6205903010 | 0.5308 | 0.58451696
6205903030 | 0.2359 | 0.25977308
6205903050 | 0.1769 | 0.19480228
6205904010 | 0.5308 | 0.58451696
6205904030 | 0.2359 | 0.25977308
6205904040 | 0.2359 | 0.25977308
6206100010 | 0.5308 | 0.58451696
6206100030 | 0.2359 | 0.25977308
6206100040 | 0.118 | 0.1299416
6206100050 | 0.2359 | 0.25977308
6206203010 | 0.059 | 0.0649708
6206203020 | 0.059 | 0.0649708
6206301000 | 1.1796 | 1.29897552
6206302000 | 0.6488 | 0.71445856
6206303003 | 0.9436 | 1.03909232
6206303011 | 0.9436 | 1.03909232
6206303021 | 0.9436 | 1.03909232
6206303031 | 0.9436 | 1.03909232
6206303041 | 0.9436 | 1.03909232
6206303051 | 0.9436 | 1.03909232
6206303061 | 0.9436 | 1.03909232
6206401000 | 0.4128 | 0.45457536
6206403010 | 0.2949 | 0.32474388
6206403020 | 0.2949 | 0.32474388
6206403025 | 0.2949 | 0.32474388
6206403030 | 0.2949 | 0.32474388
6206403040 | 0.2949 | 0.32474388
6206403050 | 0.2949 | 0.32474388
6206900010 | 0.5308 | 0.58451696
6206900030 | 0.2359 | 0.25977308
6206900040 | 0.1769 | 0.19480228
6207110000 | 1.0281 | 1.13214372
6207199010 | 0.3427 | 0.37738124
6207199030 | 0.4569 | 0.50313828
6207210010 | 1.0502 | 1.15648024
6207210020 | 1.0502 | 1.15648024
6207210030 | 1.0502 | 1.15648024
6207210040 | 1.0502 | 1.15648024
6207220000 | 0.3501 | 0.38553012
6207291000 | 0.1167 | 0.12851004
6207299030 | 0.1167 | 0.12851004
6207911000 | 1.0852 | 1.19502224
6207913010 | 1.0852 | 1.19502224
6207913020 | 1.0852 | 1.19502224
6207997520 | 0.2412 | 0.26560944
6207998510 | 0.2412 | 0.26560944
6207998520 | 0.2412 | 0.26560944
6208110000 | 0.2412 | 0.26560944
6208192000 | 1.0852 | 1.19502224
6208195000 | 0.1206 | 0.13280472
6208199000 | 0.2412 | 0.26560944
6208210010 | 1.0026 | 1.10406312
6208210020 | 1.0026 | 1.10406312
6208210030 | 1.0026 | 1.10406312
6208220000 | 0.118 | 0.1299416
6208299030 | 0.2359 | 0.25977308
6208911010 | 1.0852 | 1.19502224
6208911020 | 1.0852 | 1.19502224
6208913010 | 1.0852 | 1.19502224
6208913020 | 1.0852 | 1.19502224
6208920010 | 0.1206 | 0.13280472
6208920020 | 0.1206 | 0.13280472
6208920030 | 0.1206 | 0.13280472
6208920040 | 0.1206 | 0.13280472
6208992010 | 0.0603 | 0.06640236
6208992020 | 0.0603 | 0.06640236
6208995010 | 0.2412 | 0.26560944
6208995020 | 0.2412 | 0.26560944
6208998010 | 0.2412 | 0.26560944
6208998020 | 0.2412 | 0.26560944
6209201000 | 1.0967 | 1.20768604
6209202000 | 1.039 | 1.1441468
6209203000 | 0.9236 | 1.01706832
6209205030 | 0.9236 | 1.01706832
6209205035 | 0.9236 | 1.01706832
6209205045 | 0.9236 | 1.01706832
6209205050 | 0.9236 | 1.01706832
6209301000 | 0.2917 | 0.32122004
6209302000 | 0.2917 | 0.32122004
6209303010 | 0.2334 | 0.25702008
6209303020 | 0.2334 | 0.25702008
6209303030 | 0.2334 | 0.25702008
6209303040 | 0.2334 | 0.25702008
6209900500 | 0.1154 | 0.12707848
6209901000 | 0.2917 | 0.32122004
6209902000 | 0.2917 | 0.32122004
6209903010 | 0.2917 | 0.32122004
6209903015 | 0.2917 | 0.32122004
6209903020 | 0.2917 | 0.32122004
6209903030 | 0.2917 | 0.32122004
6209903040 | 0.2917 | 0.32122004
6210109010 | 0.217 | 0.2389604
6210109040 | 0.217 | 0.2389604
6210203000 | 0.0362 | 0.03986344
6210205000 | 0.0844 | 0.09294128
6210207000 | 0.1809 | 0.19920708
6210303000 | 0.0362 | 0.03986344
6210305000 | 0.0844 | 0.09294128
6210307000 | 0.0362 | 0.03986344
6210309020 | 0.422 | 0.4647064
6210403000 | 0.037 | 0.0407444
6210405020 | 0.4316 | 0.47527792
6210405031 | 0.0863 | 0.09503356
6210405039 | 0.0863 | 0.09503356
6210405040 | 0.4316 | 0.47527792
6210405050 | 0.4316 | 0.47527792
6210407000 | 0.111 | 0.1222332
6210409025 | 0.111 | 0.1222332
6210409033 | 0.111 | 0.1222332
6210409045 | 0.111 | 0.1222332
6210409060 | 0.111 | 0.1222332
6210503000 | 0.037 | 0.0407444
6210505020 | 0.0863 | 0.09503356
6210505031 | 0.0863 | 0.09503356
6210505039 | 0.0863 | 0.09503356
6210505040 | 0.0863 | 0.09503356
6210505055 | 0.0863 | 0.09503356
6210507000 | 0.4316 | 0.47527792
6210509050 | 0.148 | 0.1629776
6210509060 | 0.148 | 0.1629776
6210509070 | 0.148 | 0.1629776
6210509090 | 0.148 | 0.1629776
6211111010 | 0.1206 | 0.13280472
6211111020 | 0.1206 | 0.13280472
6211118010 | 1.0852 | 1.19502224
6211118020 | 1.0852 | 1.19502224
6211118040 | 0.2412 | 0.26560944
6211121010 | 0.0603 | 0.06640236
6211121020 | 0.0603 | 0.06640236
6211128010 | 1.0852 | 1.19502224
6211128020 | 1.0852 | 1.19502224
6211128030 | 0.6029 | 0.66391348
6211200410 | 0.7717 | 0.84979604
6211200420 | 0.0965 | 0.1062658
6211200430 | 0.7717 | 0.84979604
6211200440 | 0.0965 | 0.1062658
6211200810 | 0.3858 | 0.42484296
6211200820 | 0.3858 | 0.42484296
6211201510 | 0.7615 | 0.8385638
6211201515 | 0.2343 | 0.25801116
6211201520 | 0.6443 | 0.70950316
6211201525 | 0.2929 | 0.32254148
6211201530 | 0.7615 | 0.8385638
6211201535 | 0.3515 | 0.3870718
6211201540 | 0.7615 | 0.8385638
6211201545 | 0.2929 | 0.32254148
6211201550 | 0.7615 | 0.8385638
6211201555 | 0.41 | 0.451492
6211201560 | 0.7615 | 0.8385638
6211201565 | 0.2343 | 0.25801116
6211202400 | 0.1233 | 0.13577796
6211202810 | 0.8016 | 0.88272192
6211202820 | 0.2466 | 0.27155592
6211202830 | 0.3083 | 0.33949996
6211203400 | 0.1233 | 0.13577796
6211203810 | 0.8016 | 0.88272192
6211203820 | 0.2466 | 0.27155592
6211203830 | 0.3083 | 0.33949996
6211204400 | 0.1233 | 0.13577796
6211204815 | 0.8016 | 0.88272192
6211204835 | 0.2466 | 0.27155592
6211204860 | 0.3083 | 0.33949996
6211205400 | 0.1233 | 0.13577796
6211205810 | 0.8016 | 0.88272192
6211205820 | 0.2466 | 0.27155592
6211205830 | 0.3083 | 0.33949996
6211206400 | 0.1233 | 0.13577796
6211206810 | 0.8016 | 0.88272192
6211206820 | 0.2466 | 0.27155592
6211206830 | 0.3083 | 0.33949996
6211207400 | 0.1233 | 0.13577796
6211207810 | 0.9249 | 1.01849988
6211207820 | 0.2466 | 0.27155592
6211207830 | 0.3083 | 0.33949996
6211320003 | 0.6412 | 0.70608944
6211320007 | 0.8016 | 0.88272192
6211320010 | 0.9865 | 1.0863338
6211320015 | 0.9865 | 1.0863338
6211320025 | 0.9865 | 1.0863338
6211320030 | 0.9249 | 1.01849988
6211320040 | 0.9249 | 1.01849988
6211320050 | 0.9249 | 1.01849988
6211320060 | 0.9249 | 1.01849988
6211320070 | 0.9249 | 1.01849988
6211320075 | 0.9249 | 1.01849988
6211320081 | 0.9249 | 1.01849988
6211330003 | 0.0987 | 0.10868844
6211330007 | 0.1233 | 0.13577796
6211330010 | 0.3083 | 0.33949996
6211330015 | 0.3083 | 0.33949996
6211330017 | 0.3083 | 0.33949996
6211330025 | 0.37 | 0.407444
6211330030 | 0.37 | 0.407444
6211330035 | 0.37 | 0.407444
6211330040 | 0.37 | 0.407444
6211330054 | 0.37 | 0.407444
6211330058 | 0.37 | 0.407444
6211330061 | 0.37 | 0.407444
6211390510 | 0.1233 | 0.13577796
6211390520 | 0.1233 | 0.13577796
6211390530 | 0.1233 | 0.13577796
6211390540 | 0.1233 | 0.13577796
6211390545 | 0.1233 | 0.13577796
6211390551 | 0.1233 | 0.13577796
6211399010 | 0.2466 | 0.27155592
6211399020 | 0.2466 | 0.27155592
6211399030 | 0.2466 | 0.27155592
6211399040 | 0.2466 | 0.27155592
6211399050 | 0.2466 | 0.27155592
6211399060 | 0.2466 | 0.27155592
6211399070 | 0.2466 | 0.27155592
6211399090 | 0.2466 | 0.27155592
6211420003 | 0.6412 | 0.70608944
6211420007 | 0.8016 | 0.88272192
6211420010 | 0.9865 | 1.0863338
6211420020 | 0.9865 | 1.0863338
6211420025 | 1.1099 | 1.22222188
6211420030 | 0.8632 | 0.95055584
6211420040 | 0.9865 | 1.0863338
6211420054 | 1.1099 | 1.22222188
6211420056 | 1.1099 | 1.22222188
6211420060 | 0.9865 | 1.0863338
6211420070 | 1.1099 | 1.22222188
6211420075 | 1.1099 | 1.22222188
6211420081 | 1.1099 | 1.22222188
6211430003 | 0.0987 | 0.10868844
6211430007 | 0.1233 | 0.13577796
6211430010 | 0.2466 | 0.27155592
6211430020 | 0.2466 | 0.27155592
6211430030 | 0.2466 | 0.27155592
6211430040 | 0.2466 | 0.27155592
6211430050 | 0.2466 | 0.27155592
6211430060 | 0.2466 | 0.27155592
6211430064 | 0.3083 | 0.33949996
6211430066 | 0.2466 | 0.27155592
6211430074 | 0.3083 | 0.33949996
6211430076 | 0.37 | 0.407444
6211430078 | 0.37 | 0.407444
6211430091 | 0.2466 | 0.27155592
6211499010 | 0.2466 | 0.27155592
6211499020 | 0.2466 | 0.27155592
6211499030 | 0.2466 | 0.27155592
6211499040 | 0.2466 | 0.27155592
6211499050 | 0.2466 | 0.27155592
6211499060 | 0.2466 | 0.27155592
6211499070 | 0.2466 | 0.27155592
6211499080 | 0.2466 | 0.27155592
6211499090 | 0.2466 | 0.27155592
6212105010 | 0.9138 | 1.00627656
6212105020 | 0.2285 | 0.2516242
6212105030 | 0.2285 | 0.2516242
6212109010 | 0.9138 | 1.00627656
6212109020 | 0.2285 | 0.2516242
6212109040 | 0.2285 | 0.2516242
6212200010 | 0.6854 | 0.75476248
6212200020 | 0.2856 | 0.31450272
6212200030 | 0.1142 | 0.12575704
6212300010 | 0.6854 | 0.75476248
6212300020 | 0.2856 | 0.31450272
6212300030 | 0.1142 | 0.12575704
6212900010 | 0.1828 | 0.20129936
6212900020 | 0.1828 | 0.20129936
6212900030 | 0.1828 | 0.20129936
6212900050 | 0.0914 | 0.10064968
6212900090 | 0.4112 | 0.45281344
6213201000 | 1.1187 | 1.23191244
6213202000 | 1.0069 | 1.10879828
6213900700 | 0.4475 | 0.492787
6213901000 | 0.4475 | 0.492787
6213902000 | 0.3356 | 0.36956272
6214300000 | 0.1142 | 0.12575704
6214400000 | 0.1142 | 0.12575704
6214900010 | 0.8567 | 0.94339804
6214900090 | 0.2285 | 0.2516242
6215100025 | 0.1142 | 0.12575704
6215200000 | 0.1142 | 0.12575704
6215900015 | 1.0281 | 1.13214372
6216000800 | 0.0685 | 0.0754322
6216001300 | 0.3427 | 0.37738124
6216001720 | 0.6397 | 0.70443764
6216001730 | 0.1599 | 0.17608188
6216001900 | 0.3427 | 0.37738124
6216002110 | 0.578 | 0.6364936
6216002120 | 0.2477 | 0.27276724
6216002410 | 0.6605 | 0.7273426
6216002425 | 0.1651 | 0.18180812
6216002600 | 0.1651 | 0.18180812
6216002910 | 0.6605 | 0.7273426
6216002925 | 0.1651 | 0.18180812
6216003100 | 0.1651 | 0.18180812
6216003300 | 0.5898 | 0.64948776
6216003500 | 0.5898 | 0.64948776
6216003800 | 1.1796 | 1.29897552
6216004100 | 1.1796 | 1.29897552
6217109510 | 0.9646 | 1.06221752
6217109520 | 0.1809 | 0.19920708
6217109530 | 0.2412 | 0.26560944
6217909003 | 0.9646 | 1.06221752
6217909005 | 0.1809 | 0.19920708
6217909010 | 0.2412 | 0.26560944
6217909025 | 0.9646 | 1.06221752
6217909030 | 0.1809 | 0.19920708
6217909035 | 0.2412 | 0.26560944
6217909050 | 0.9646 | 1.06221752
6217909055 | 0.1809 | 0.19920708
6217909060 | 0.2412 | 0.26560944
6217909075 | 0.9646 | 1.06221752
6217909080 | 0.1809 | 0.19920708
6217909085 | 0.2412 | 0.26560944
6301300010 | 0.8305 | 0.9145466
6301300020 | 0.8305 | 0.9145466
6301900030 | 0.2215 | 0.2439158
6302100005 | 1.1073 | 1.21935876
6302100008 | 1.1073 | 1.21935876
6302100015 | 1.1073 | 1.21935876
6302213010 | 1.1073 | 1.21935876
6302213020 | 1.1073 | 1.21935876
6302213030 | 1.1073 | 1.21935876
6302213040 | 1.1073 | 1.21935876
6302213050 | 1.1073 | 1.21935876
6302215010 | 0.7751 | 0.85354012
6302215020 | 0.7751 | 0.85354012
6302215030 | 0.7751 | 0.85354012
6302215040 | 0.7751 | 0.85354012
6302215050 | 0.7751 | 0.85354012
6302217010 | 1.1073 | 1.21935876
6302217020 | 1.1073 | 1.21935876
6302217030 | 1.1073 | 1.21935876
6302217040 | 1.1073 | 1.21935876
6302217050 | 1.1073 | 1.21935876
6302219010 | 0.7751 | 0.85354012
6302219020 | 0.7751 | 0.85354012
6302219030 | 0.7751 | 0.85354012
6302219040 | 0.7751 | 0.85354012
6302219050 | 0.7751 | 0.85354012
6302221010 | 0.5537 | 0.60973444
6302221020 | 0.3876 | 0.42682512
6302221030 | 0.5537 | 0.60973444
6302221040 | 0.3876 | 0.42682512
6302221050 | 0.3876 | 0.42682512
6302221060 | 0.3876 | 0.42682512
6302222010 | 0.3876 | 0.42682512
6302222020 | 0.3876 | 0.42682512
6302222030 | 0.3876 | 0.42682512
6302290020 | 0.2215 | 0.2439158
6302313010 | 1.1073 | 1.21935876
6302313020 | 1.1073 | 1.21935876
6302313030 | 1.1073 | 1.21935876
6302313040 | 1.1073 | 1.21935876
6302313050 | 1.1073 | 1.21935876
6302315010 | 0.7751 | 0.85354012
6302315020 | 0.7751 | 0.85354012
6302315030 | 0.7751 | 0.85354012
6302315040 | 0.7751 | 0.85354012
6302315050 | 0.7751 | 0.85354012
6302317010 | 1.1073 | 1.21935876
6302317020 | 1.1073 | 1.21935876
6302317030 | 1.1073 | 1.21935876
6302317040 | 1.1073 | 1.21935876
6302317050 | 1.1073 | 1.21935876
6302319010 | 0.7751 | 0.85354012
6302319020 | 0.7751 | 0.85354012
6302319030 | 0.7751 | 0.85354012
6302319040 | 0.7751 | 0.85354012
6302319050 | 0.7751 | 0.85354012
6302321010 | 0.5537 | 0.60973444
6302321020 | 0.3876 | 0.42682512
6302321030 | 0.5537 | 0.60973444
6302321040 | 0.3876 | 0.42682512
6302321050 | 0.3876 | 0.42682512
6302321060 | 0.3876 | 0.42682512
6302322010 | 0.5537 | 0.60973444
6302322020 | 0.3876 | 0.42682512
6302322030 | 0.5537 | 0.60973444
6302322040 | 0.3876 | 0.42682512
6302322050 | 0.3876 | 0.42682512
6302322060 | 0.3876 | 0.42682512
6302390030 | 0.2215 | 0.2439158
6302402010 | 0.9412 | 1.03644944
6302511000 | 0.5537 | 0.60973444
6302512000 | 0.8305 | 0.9145466
6302513000 | 0.5537 | 0.60973444
6302514000 | 0.7751 | 0.85354012
6302593020 | 0.5537 | 0.60973444
6302600010 | 1.1073 | 1.21935876
6302600020 | 0.9966 | 1.09745592
6302600030 | 0.9966 | 1.09745592
6302910005 | 0.9966 | 1.09745592
6302910015 | 1.1073 | 1.21935876
6302910025 | 0.9966 | 1.09745592
6302910035 | 0.9966 | 1.09745592
6302910045 | 0.9966 | 1.09745592
6302910050 | 0.9966 | 1.09745592
6302910060 | 0.9966 | 1.09745592
6302931000 | 0.4429 | 0.48772148
6302932000 | 0.4429 | 0.48772148
6302992000 | 0.2215 | 0.2439158
6303191100 | 0.8859 | 0.97555308
6303910010 | 0.609 | 0.6706308
6303910020 | 0.609 | 0.6706308
6303921000 | 0.2768 | 0.30481216
6303922010 | 0.2768 | 0.30481216
6303922030 | 0.2768 | 0.30481216
6303922050 | 0.2768 | 0.30481216
6303990010 | 0.2768 | 0.30481216
6304111000 | 0.9966 | 1.09745592
6304113000 | 0.1107 | 0.12190284
6304190500 | 0.9966 | 1.09745592
6304191000 | 1.1073 | 1.21935876
6304191500 | 0.3876 | 0.42682512
6304192000 | 0.3876 | 0.42682512
6304193060 | 0.2215 | 0.2439158
6304910020 | 0.8859 | 0.97555308
6304910070 | 0.2215 | 0.2439158
6304920000 | 0.8859 | 0.97555308
6304996040 | 0.2215 | 0.2439158
6505001515 | 1.1189 | 1.23213268
6505001525 | 0.5594 | 0.61601128
6505001540 | 1.1189 | 1.23213268
6505002030 | 0.9412 | 1.03644944
6505002060 | 0.9412 | 1.03644944
6505002545 | 0.5537 | 0.60973444
6507000000 | 0.3986 | 0.43893832
9404901000 | 0.2104 | 0.23169248
9404908020 | 0.9966 | 1.09745592
9404908040 | 0.9966 | 1.09745592
9404908505 | 0.6644 | 0.73163728
9404908536 | 0.0997 | 0.10978964
9404909505 | 0.6644 | 0.73163728
9404909570 | 0.2658 | 0.29269896
9619002100 | 0.8681 | 0.95595172
9619002500 | 0.1085 | 0.1194802
9619003100 | 0.9535 | 1.0499942
9619003300 | 1.1545 | 1.2713354
9619004100 | 0.2384 | 0.26252608
9619004300 | 0.2384 | 0.26252608
9619006100 | 0.8528 | 0.93910336
9619006400 | 0.2437 | 0.26836244
9619006800 | 0.3655 | 0.4024886
9619007100 | 1.1099 | 1.22222188
9619007400 | 0.2466 | 0.27155592
9619007800 | 0.2466 | 0.27155592
9619007900 | 0.2466 | 0.27155592
5007106010 | 0.2713 | 0.29875556
5007106020 | 0.2713 | 0.29875556
5007906010 | 0.2713 | 0.29875556
5007906020 | 0.2713 | 0.29875556

* * * * *

Authority: 7 U.S.C. 2101-2118

Dated: July 26, 2016.
Elanor Starmer,
Administrator.

[FR Doc. 2016-18109 Filed 8-4-16; 8:45 am]

BILLING CODE 3410-02-P